DEPARTMENT OF COMMERCE

National Oceanic and Atmospheric Administration

50 CFR Part 679

[Docket No. 021213310-2310-01; I.D. 101702B]

RIN 0648-AP92

Individual Fishing Quota (IFQ) Program for Pacific Halibut and Sablefish; Revisions to Recordkeeping and Reporting Requirements

AGENCY: National Marine Fisheries Service (NMFS), National Oceanic and Atmospheric Administration (NOAA), Commerce.

ACTION: Proposed rule; request for comments.

SUMMARY: NMFS proposes regulations to implement Amendment 72 to the Fishery Management Plan for the Groundfish Fishery of the Bering Sea and Aleutian Islands Area (Amendment 72) and Amendment 64 to the Fishery Management Plan for Groundfish of the Gulf of Alaska (Amendment 64) (collectively, Amendments 72/64). This action would revise certain recordkeeping and reporting requirements for the Individual Fishing Quota (IFQ) Program for fixed gear Pacific halibut and sablefish fisheries and the Western Alaska Community Development Quota (CDQ) Program for the Pacific halibut fishery. This action is necessary to improve IFQ fishing operations, while complying with IFQ Program requirements; to improve NMFS' ability to efficiently administer the program; and to improve the clarity and consistency of IFQ Program regulations. This action is intended to meet the conservation and management requirements of the Northern Pacific Halibut Act of 1982 (Halibut Act) with respect to halibut and of the Magnuson-Stevens Fishery Conservation and Management Act, 16 U.S.C. 1801 et seq., (Magnuson-Stevens Act) with respect to sablefish and to further the goals and objectives of the groundfish Fishery Management Plans (FMPs).

DATES: Comments must be received at the following address no later than February 24, 2003.

ADDRESSES: Comments should be sent to Sue Salveson, Assistant Administrator, Sustainable Fisheries Division, Alaska Region, NMFS, P.O. Box 21668, Juneau, AK 99802-1668, Attn: Lori Gravel-Durall) or delivered to the Federal Building, 709 West 9th Street, Room 401, Juneau, AK. Comments may be sent via facsimile to 907-586-7465. Comments will not be accepted if submitted via e-mail or the Internet. Copies of Amendment 72/64 of the FMPs and the Regulatory Impact Review/Initial Regulatory Flexibility Analysis (RIR/IRFA) prepared for this action may also be obtained from the same address, or by calling the Alaska Region, NMFS, at 907-586-7228. Send comments on collection-of-information requirements to NMFS, Alaska Region, and to the Office of Information and Regulatory Affairs (OIRA), Office of Management and Budget (OMB), Washington, DC 20503 (Attn: NOAA Desk Officer).

FOR FURTHER INFORMATION CONTACT: Patsy A. Bearden, 907-586-7228 or patsy.bearden@noaa.gov.

SUPPLEMENTARY INFORMATION:

Background and Need for Action

NMFS manages the groundfish fisheries in the Exclusive Economic Zone (EEZ) off Alaska according to fishery management plans prepared by the North Pacific Fishery Management Council (Council) under the authority of the Magnuson-Stevens Act. The FMPs are implemented by regulations at 50 CFR part 679. General regulations that also pertain to these fisheries appear in subpart H to 50 CFR part 600.

Regulations codified at 50 CFR part 679 implement the IFQ Program, a limited access system for management of the Pacific halibut (Hippoglossus stenolepis) and sablefish (Anoplopoma fimbria) fixed gear fisheries in and off Alaska.

The IFQ Program, a limited access management system for the fixed gear Pacific halibut and sablefish fisheries off Alaska, was approved by NMFS in January 1993 and fully implemented beginning in March 1995. The IFQ Program for the sablefish fishery is implemented by the FMPs and Federal regulations under 50 CFR part 679 under authority of the Magnuson-Stevens Act. The IFQ Program for the halibut fishery is implemented by Federal regulations promulgated under the authority of the Halibut Act. Further information on the rationale for and implementation of the IFQ Program is contained in the preamble to the final rule published in the Federal Register, November 9, 1993 (58 FR 59375). Regulations implementing the IFQ Program have been revised numerous times since 1993 to refine program operations.

This action would amend the regulatory text establishing Recordkeeping and Reporting (R&R) requirements for the groundfish fishery as well as the IFQ program requirements. Removal of the IFQ Shipment Report and of the IFQ Vessel Clearance would affect other IFQ procedures and forms—the IFQ Landing Report, IFQ Prior Notice of Landing (PNOL), and IFQ Departure Report—as well as definitions, groundfish R&R procedures and forms, the Product Transfer Report (PTR) and Vessel Activity Report (VAR). Revisions are made to the regulatory text to accommodate the procedural changes.

The need, justification, and economic impacts for the actions in this proposed rule, as well as impacts of the alternatives considered, were analyzed in the RIR/IRFA prepared for this action (see ADDRESSES).

The revisions to the regulations at 50 CFR part 679 are presented below in the order they appear in the regulations.

Section 679.2 Definitions

This action would revise the definitions: “Authorized officer,” “Clearing officer,” “IFQ landing,” and “IFQ Registered Buyer.” “Authorized officer,” would be revised to cross-reference the definition of “Authorized officer” at 50 CFR 600.10.

Location | Existing text | Proposed text
Definition for “Authorized officer” | Authorized officer means, for purposes of recordkeeping and reporting, a NOAA special agent, a NOAA fishery enforcement officer or USCG fisheries enforcement personnel | Means: (1) Any commissioned, warrant, or petty officer of the USCG; (2) Any special agent or fishery enforcement officer of NMFS; (3) Any officer designated by the head of any Federal or State agency that has entered into an agreement with the Secretary and the Commandant of the USCG to enforce the provisions of the Magnuson-Stevens Act or any other statute administered by NOAA; or (4) Any USCG personnel accompanying and acting under the direction of any person described in paragraph (1) of this definition.
Definition for “Clearing officer” | Means a NMFS special agent, a NMFS fishery enforcement officer, or a NMFS enforcement aide who performs the function of clearing vessels at one of the primary ports listed in Table 14 to this part | Means a NOAA Fisheries Office for Law Enforcement (OLE) special agent, an OLE fishery enforcement officer, or an OLE enforcement enforcement aide.
Definition for “IFQ landing” | Means the unloading or transferring of any IFQ halibut, IFQ sablefish, or produts thereof from the vessel that harvested such fish or the removal from the water of a vessel containing IFQ halbiut, IFQ sablefish, or products thereof | Means the unloading or transferring of any IFQ halibut, CDQ halibut, IFQ sablefish, or products thereof from vessel that harvested such fish or the removal from the water of a vessel containing IFQ halibut, CDQ halibut, IFQ sablefish, or products thereof.
Definition for “IFQ permit holder” | § 679.4(d)(3)(B) | § 679.4(d)(1).
Definition for “IFQ Registered Buyer” | § 679.4(d)(2) | § 679.4(d)(3).
Definition for “Transfer” | (2) IFQ/CDQ fisheries. Any loading, offloading, shipment or receipt of any groundfish product | (2) IFQ halibut, CDQ halibut, IFQ sablefish. Any loading, offloading, shipment or receipt of any IFQ halibut, CDQ halibut, IFQ sablefish product.

Section 679.4(d) IFQ Permits

In response to the removal of “Vessel Clearance” and “Shipment Report” and to the revision of “Departure Report,” this action would reorganize the regulatory text in the IFQ permits section. Detailed changes to § 679.4(d) are presented below:

§ 679.4 paragraph | Redesignated as | No change | Revised | Removed | Added
(d) heading |  |  | X
Introductory (d)(1) | Introductory (d)
(d)(1) heading |  |  | X
(d)(1)(i) | (d)(1) |  | X |
(d)(4)(i) | (d)(1)(i)
(d)(6)(i) | (d)(1)(ii) |  | X
(d)(2) heading |  |  | X
(d)(4)(ii) | (d)(2)(i) |  | X
(d)(1)(ii) | (d)(2)(ii) |  | X
(d)(3)(i)(C) | (d)(2)(iii) |  | X
(d)(3) heading |  |  | X
(d)(2) | (d)(3)
(d)(4)(iii) | (d)(3)(i) |  | X
(d)(3)(i)(B) |  |  |  | X
Introductory (d)(2) | (d)(3)(ii)
(d)(2)(i) | (d)(3)(ii)(A)
(d)(2)(ii) | (d)(3)(ii)(B)
(d)(2)(iii) | (d)(3)(ii)(C) |  | X
(d)(3)(ii) | (d)(3)(iii) |  | X
(d)(3)(iv) |  |  |  |  | X
(d)(4) heading |  |  | X
(d)(3)(i)(A) | (d)(4)
(d)(5) |  |  | X |
(d)(6)(i) |  |  |  | X
(d)(6)(ii) | (d)(6)(i) |  | X
(d)(6)(iii) | (d)(6)(ii) |  | X
(d)(7) |  |  | X

Revisions to the regulatory text are presented below, showing the location of the text, the current text, and the proposed text.

Location § 679.4 paragraph | Existing text | Proposed text
(d) heading | IFQ Permits. | IFQ permits, IFQ cards, and IFQ Registered Buyer permits.
(d)(1) heading | General. | IFQ permit.
(d)(1)(i) | (d)(4)(i) IFQ permit. An IFQ permit authorizes the person identified on the permit to harvest IFQ halibut or IFQ sablefish from a specified IFQ regulatory area at any time during an open fishing season during the fishing year for which the IFQ permit is issued until the amount harvested is equal to the amount specified under the permit, or until it is revoked, suspended, or modified under 15 CFR part 904. | (d)(1)(i) An IFQ permit authorizes the person identified on the permit to harvest IFQ halibut or IFQ sablefish from a specified IFQ regulatory area at any time during an open fishing season during the fishing year for which the IFQ permit is issued until the amount harvested is equal to the amount specified under the permit, or until it is revoked, suspended, or modified under 15 CFR part 904.
(d)(1)(ii) | (d)(1)(i) A copy of an IFQ permit that specifies the IFQ regulatory area and vessel category in which IFQ halibut or IFQ sablefish may be harvested by the IFQ permit holder; and (d)(6)(i) IFQ permit. A legible copy of any IFQ permit issued under this section must be carried on board the vessel used by the permitted person to harvest IFQ halibut or IFQ sablefish at all times that such fish are retained on board. | (d)(1)(ii) A legible copy of any IFQ permit that specifies the IFQ regulatory area and vessel length overall from which IFQ halibut or IFQ sablefish may be harvested by the IFQ permit holder must be carried on board the vessel used by the permitted person to harvest IFQ halibut or IFQ sablefish at all times that such fish are retained on board.
(d)(2) heading | Registered buyer permit. | IFQ card.
(d)(2)(i) | (d)(4)(ii) IFQ card. An IFQ card authorizes the individual identified on the card to land IFQ halibut or IFQ sablefish for debit against the specified IFQ permit until the card expires, or is revoked, suspended, or modified under 15 CFR part 904, or cancelled on request of the IFQ permit holder. | (d)(2)(i) An IFQ card authorizes the individual identified on the card to land IFQ halibut or IFQ sablefish for debit against the specified IFQ permit until the card expires, or is revoked, suspended, or modified under 15 CFR part 904, or cancelled on request of the IFQ permit holder.
(d)(2)(ii) | (d)(1)(ii) IFQ card. An original IFQ card issued by the Regional Administrator. (d)(6)(ii) IFQ card. Except as specified in 679.42(d), an individual that is issued an IFQ card must remain aboard the vessel used to harvests IFQ halibut or IFQ sablefish with that card during all fishing operations until arrival at the point of landing and during all IFQ landings. | (d)(2)(ii) An original IFQ card issued by the Regional Administrator must be on board the vessel that harvests IFQ halibut or IFQ sablefish at all times that such fish are retained on board. Except as specified in 679.42(d), an individual that is issued an IFQ card must remain aboard the vessel used to harvest IFQ halibut or IFQ sablefish with that card during the IFQ fishing trip and at the landing site during all IFQ landings.
(d)(2)(iii) | (d)(3)(i)(C) IFQ card. Each IFQ card issued by the Regional Administrator will display an IFQ permit number and the individual authorized by the IFQ permit holder to land IFQ halibut or IFQ sablefish for debit against the permit holder's IFQ. | (d)(2)(iii) Each IFQ card issued by the Regional Administrator will display an IFQ permit number, the name of the individual authorized by the IFQ permit holder to land IFQ halibut or IFQ sablefish for debit against the permit holder's IFQ. In addition, IFQ cards issued to hired masters representing permit holders per 679.42(i) and (j) will also display the ADF&G vessel identification number of the authorized vessel.
(d)(3) heading | How do I obtain an IFQ permit, IFQ card, or Registered Buyer Permit? | Registered Buyer permit.
(d)(3)(ii)(C) | (d)(2)(iii) A vessel operator who obtains a vessel clearance or submits a departure report (see 679.5(1)(5)(iv). | (d)(3)(ii)(C) A vessel operator who submits a Departure Report (see 679.5(l)(4)).
(d)(3)(iii) | (d)(3)(ii) Registered Buyer permits. Registered buyer permits will be renewed or issued annually by the Regional Administrator to persons that have a registered buyer application approved by the Regional Administrator. | (d)(3)(iii) A Registered Buyer permit is issued on a 3-year cycle by the Regional Administrator to persons that have a Registered Buyer application approved by the Regional Administrator.
(d)(4) heading | Duration. | Issuance.
(d)(5) | The IFQ permits issued under this section are not transferable, except as provided under 679.41. IFQ cards and Registered Buyer permits issued under this paragraph (d) are not transferable. | The quota shares and IFQ issued under this section are not transferable, except as provided under 679.41. IFQ cards and Registered Buyer permits issued under this paragraph (d) are not transferable.
(d)(6)(i) | (d)(6)(ii) IFQ card. Except as specified in § 679.42(d), an individual who is issued an IFQ card must remain aboard the vessel used to harvest IFQ halibut or IFQ sablefish with that card during all fishing operations until arrival at the point of landing and during all IFQ landings. The IFQ cardholder must present a copy of the IFQ permit and the original IFQ card for inspection on request of any authorized officer, clearing officer, or registered buyer purchasing IFQ species. Nothing in this paragraph would prevent an individual who is issued an IFQ card from being absent from the vessel used to harvest IFQ halibut or IFQ sablefish between the time the vessel arrives at the point of landing until the commencement of landing. | (d)(6)(i) IFQ permit and card. The IFQ cardholder must present a copy of the IFQ permit and the original IFQ card for inspection on request of any authorized officer or Registered Buyer receiving IFQ species. Nothing in this paragraph would prevent an individual who is issued an IFQ card from being absent from the vessel used to harvest IFQ halibut or IFQ sablefish from the time the vessel arrives at the point of landing and the commencement of landing.
(d)(6)(ii) | (d)(6)(iii) Registered buyer permit. A legible copy of the Registered Buyer permit must be present at the location of an IFQ landing and must be made available for inspection on request of any authorized officer or clearing officer. | (d)(6)(ii) Registered Registered buyer permit. A legible copy of the Registered Buyer permit must be present at the location of an IFQ landing and must be made available by the Registered Buyer's representative for inspection on request of any authorized officer.
(d)(7) | § 679.5(e)(7)(ii). | § 679.5(l)(7)(ii).

Section 679.5(a)(15) IFQ/groundfish Transfer Document Comparison

In response to the removal of the IFQ Vessel Clearance and the IFQ Shipment Report, the regulatory text in § 679.5(a)(15), the revised procedures for the Product Transfer Report, and the in-text table that compares the transfer documents are reorganized and revised.

The introductory paragraph (a)(15) of this section would be revised to include an explanation of the “X” symbols in the body of the table.

The in-text table would be restructured to provide for the removal of the IFQ Vessel Clearance and the IFQ Shipment Report. The columns across the top of the table are revised by removing the columns entitled: “IFQ Vessel Clearance” and “IFQ Shipment Report,” and adding columns entitled: “IFQ Landing Report Receipt.” Cross-referencing paragraph numbers previously located within table columns are relocated to rows in the table for easier reading. New headings are added to indicate activity, e.g., submitting a report to NMFS, issuing a receipt to the public, and possessing a receipt. A new column heading “SUBMITTAL” would be added to group together those forms that require submittal to NMFS over the subheadings “VAR,” “PTR,” “IFQ Trans-shipment Authorization,” and “IFQ Departure Report.” Another new column heading “ISSUE” would be placed over the subheading “IFQ Dockside Sales Receipt.” A third heading “POSSESS” would be placed over the subheading “IFQ Landing Report Receipt.” The rows of the table are revised as follows:

§ 679.5, paragraph | Redesignated as | No change | Revised | Removed | Added
(a)(15) heading |  |  | X |  |
(a)(15)(i) |  |  | X |  |
(a)(15)(iii) | (a)(15)(ii) |  | X |  |
(a)(15)(iv) | (a)(15)(iii) |  | X |  |
(a)(15)(v) | (a)(15)(iv) |  | X |  |
(a)(15)(vi) | (a)(15)(v) |  | X |  |
(a)(15)(vii) | (a)(15)(vi) |  | X |  |
(a)(15)(vii) |  |  |  |  | X
(a)(15)(viii) |  |  | X |  |

Section 679.5(g) Product Transfer Report (PTR)

Currently, the groundfish PTR is used to document movement of groundfish product from a shoreside facility or from a processor vessel, while the IFQ Shipment Report is used to document IFQ fish transfer from an IFQ Registered Buyer. This action would combine the groundfish PTR and the IFQ Shipment Report into one form, a revised PTR, that would be used to document transfer of non-IFQ groundfish, donated prohibited species, all halibut and all sablefish. Although a copy of the Shipment Report currently is required to accompany the IFQ shipment, the proposed action would remove this requirement when using a PTR.

The detailed changes to the regulations describing the PTR are presented below:

§ 679.5, paragraph | Redesignated as | No change | Revised | Removed | Added
(g) heading |  |  | X |  |
(g)(2)(iii) | (g)(1) |  | X |  |
(g)(1)(i), (ii), (iii), and (iv) |  |  | X |  |
(g)(1)(v) heading |  |  |  |  | X
(g)(1)(v)(A) |  |  |  |  | X
(l)(3)(iv) | (g)(1)(v)(B) |  | X |  |
(l)(3)(i)(D) | (g)(1)(vi) |  | X |  |
Introductory (g)(2) |  |  | X |  |
(g)(2), (g)(2)(i), (ii), (iii) |  |  | X |  |
Introductory (g)(3) |  |  |  | X |
(g)(3)(i) |  | X |  |  |
(g)(3)(ii) |  |  | X |  |
(g)(3)(iii), (iv) |  |  |  | X |
(g)(4) heading |  |  | X |  |
(g)(4)(i)(A), (B) |  |  |  | X |
(g)(4)(ii)(A) | Introductory (g)(4) |  | X |  |
(g)(5), (g)(6) | (g)(6), (g)(7) |  |  |  |
Introductory (g)(5) | Introductory (g)(6) |  | X |  |
(g)(5)(i) | (g)(6)(i) |  | X |  |
(g)(5)(v) | (g)(6)(ii) |  | X |  |
(g)(5)(ii) | (g)(6)(iii) |  | X |  |
(g)(5)(iii) | (g)(6)(iv) |  | X |  |
(g)(5)(iv) | (g)(6)(v) |  | X |  |
(g)(6)(i) | (g)(7)(i) |  | X |  |
(g)(6)(ii) | (g)(7)(ii) |  | X |  |
New (g)(5) heading |  |  |  |  | X
(g)(4)(ii)(B) |  |  |  | X |
(g)(4)(ii)(C) | New introductory (g)(5) |  | X |  |
New (g)(5)(i), (ii), (iii), (iv) |  |  |  |  | X

The in-text table (new paragraph (g)(5)(iv)) of this section would be revised by separating the information into more distinct categories by dividing the columns to read “Receiver,” “Date & time of product transfer,” “Location of product transfer,” and “Mode of transportation and intended route.” Existing information would be reformatted to fit within these columns.

Section 679.5(k) Vessel Activity Report (VAR)

The VAR documents whether a vessel has onboard any fish or fish products, regardless of species. The VAR is submitted to NMFS before the vessel crosses the seaward boundary of the EEZ off Alaska or crosses the U.S.-Canada international boundary between Alaska and British Columbia. This action would revise the procedure for interaction of the VAR with IFQ reports due to the removal of the IFQ Vessel Clearance and the IFQ Shipment Report.

Detailed changes in § 679.5(k)(1) are presented below:

§ 679.5, paragraph | Redesignated as | No change | Revised | Removed | Added
Introductory (k)(1) | (k)(1)(i) |  | X |  |
(k)(1)(i) | (k)(1)(ii) |  | X |  |
(k)(1)(ii) | (k)(1)(iii) |  | X |  |
(k)(1)(iv) |  |  | X |  |

Revisions to the regulatory text are presented below, showing the location of the text, the current text, and the proposed text.

Location § 679.5, paragraph | Current text | Proposed text
(k)(1)(i) | Introductory (k)(1) Except as noted in paragraphs (k)(1)(iii) and (iv) of this section, the operator of a catcher vessel greater than 60 ft (18.3 m) LOA, a catcher/processor, or a mothership holding a Federal fisheries permit issued under this part and carrying fish or fish product onboard must complete and submit a VAR by FAX or electronic file to OLE, Juneau, AK before the vessel crosses the seaward boundary of the EEZ off Alaska or crosses the U.S.-Canadian international boundary between Alaska and British Columbia | (k)(1)(i) Fish or fish product onboard. Except as noted in paragraph (k)(1)(iv) of this section, the operator of a catcher vessel greater than 60 ft (18.3 m) LOA, a catcher/processor, or a mothership required to hold a Federal fisheries permit issued under this part and carrying fish or fish product onboard must complete and submit a VAR by FAX or electronic file to OLE, Juneau, AK (907-586-7313) before the vessel crosses the seaward boundary of the EEZ off Alaska or crosses the U.S.-Canadian international boundary between Alaska and British Columbia.
(k)(1)(ii) | (k)(1)(i) Both groundfish and IFQ fish. If a vessel is carrying both groundfish and IFQ halibut or IFQ sablefish, the operator must submit a VAR in addition to a Vessel Departure Report (VDR) or a Vessel Clearance (VC) | (k)(1)(ii) Combination of non-IFQ groundfish, IFQ halibut, CDQ halibut, and IFQ sablefish. If a vessel is carrying non-IFQ groundfish and IFQ halibut, CDQ halibut or IFQ sablefish, the operator must submit a VAR in addition to an IFQ Departure Report per paragraph (1)(4) of this section.
(k)(1)(iii) | (k)(1)(ii) Revised VAR. If groundfish are landed at a port other than the one specified, submit a revised VAR showing the actual port of landing | (k)(1)(iii) Revised VAR. If fish or fish products are landed at a port other than the one specified on the VAR, the vessel operator must submit a revised VAR showing the actual port of landing before any fish are offloaded.
(k)(1)(iv) | Exemption: IFQ departure report. If a vessel is carrying only IFQ halibut or IFQ sablefish onboard and the operator has submitted a Departure Report per paragraph (1)(5)(iii)(B) of this section, a VAR is not required | Exemption: IFQ departure report. If a vessel is carrying only IFQ halibut or IFQ sablefish onboard and the operator has submitted an IFQ Departure Report per paragraph (1)(4) of this section, a VAR is not required.

Section 679.5(l)(1) IFQ Prior Notice of Landing (PNOL)

The intent of the PNOL is to provide International Pacific Halibut Commission (IPHC) monitoring personnel and OLE personnel advance notice of vessel IFQ landings. Under current regulations, the operator of any vessel intending to make a landing of IFQ halibut, CDQ halibut, or IFQ sablefish must submit a PNOL to OLE 6 hours before making the landing.

This action would revise the PNOL procedure by changing the prior notification from 6 hours to 3 hours. This change would provide adequate monitoring and enforcement opportunities. The 3-hour time limit would result in improved economic efficiency in the fishery, allowing an overall exvessel price for IFQ fish to improve for a vessel operator due to additional time to seek out more competitive marketing opportunities. IFQ card holders and Registered Buyers would have more flexibility during their business negotiations. In general, this action would relieve burdens on small entities, which include Registered Buyers. It may contribute to increased competition in the delivery market for IFQ halibut and sablefish. It could benefit consumers and even cause Registered Buyers to expand into more markets (i.e., fresh fish). The estimated number of directly regulated small entities would include approximately 3,485 holders of halibut QS, 872 holders of sablefish QS, approximately 290 hired masters, and all six of the CDQ groups hold CDQ halibut.

In addition, vessels would be required to report “location of landings” rather than “Registered Buyer.” This change would provide IPHC and OLE personnel with the exact location of the landing, which is needed to plan monitoring activities, while not requiring a vessel to commit to a specific processor.

Detailed changes to the PNOL regulatory text are presented below:

§ 679.5, paragraph | Redesignated as | No change | Revised | Removed | Added
(l) heading |  |  | X |  |
Introductory (l) |  |  | X |  |
(l)(1) heading |  |  | X |  |
(l)(1)(i) heading |  |  | X |  |
(l)(1)(i) | (l)(1)(i)(A) |  | X |  |
(l)(1)(ii) | (l)(1)(i)(B) |  | X |  |
(l)(1)(v) | (l)(1)(ii) |  | X |  |
Introductory (l)(1)(iii) |  |  | X |  |
(l)(1)(iii)(A) |  | X |  |  |
(l)(1)(iii)(B), (C) |  |  | X |  |
(l)(1)(iii)(D) |  | X |  |  |
(l)(1)(iii)(E) |  |  |  | X |
(l)(1)(iii)(F) thru (H) | (l)(1)(iii)(E) thru (G) |  |  |  |
(l)(1)(iii)(H) |  |  |  | X |
(l)(1)(iv) |  |  | X |  |

Revisions to the regulatory text are presented below, showing the location of the text, the current text, and the proposed text.

Location § 679.5, paragraph | Current text | Proposed text
(l) heading | IFQ and CDQ halibut recordkeeping and reporting. | IFQ Program recordkeeping and reporting.
Introductory (l) | In addition to the recordkeeping and reporting requirements in this section and as prescribed in the annual management measures published in the Federal Register pursuant to § 300.62 of this title, the following IFQ reports are required, when applicable: prior notices of landing, landing report, shipment report, transshipment authorization, vessel clearance, and IFQ departure report. | In addition to the recordkeeping and reporting requirements in this section and as prescribed in the annual management measures published in the Federal Register pursuant to § 300.62 of this title, the following reports and authorizations are required, when applicable: IFQ Prior Notice of Landing, Product Transfer Report (see 679.5(g)), IFQ Landing Report, IFQ Transshipment Authorization, and IFQ Departure Report.
(l)(1) heading | Prior notice of IFQ landing. | IFQ Prior Notice of Landing (PNOL).
(l)(1)(i) heading | Applicability. | Time limits and submittals.
(l)(1)(i)(A) | (l)(1)(i) Except as provided in paragraph (l)(1)(iv) of this section, the operator of any vessel making an IFQ landing must notify OLE, Juneau, AK no fewer than 6 hours before landing IFQ halibut or IFQ sablefish, unless permission to commence an IFQ landing within 6 hours of notification is granted by a clearing officer. | (l)(1)(i)(A) Except as provided in paragraph (l)(1)(iv) of this section, the operator of any vessel making an IFQ landing must notify OLE, Juneau, AK no fewer than 3 hours before landing IFQ halibut or IFQ sablefish, unless permission to commence an IFQ landing within 3 hours of notification is granted by a clearing officer.
(l)(1)(i)(B) | (l)(1)(ii) Time limits. A prior notice of landing must be made to the toll-free telephone number 800-304-4846 or to 907-586-7202 between the hours of 0600 hours, A.l.t., and 2400 hours, A.l.t. | (l)(1)(i)(B) A PNOL must be made to the toll-free telephone number 800-304-4846 or to 907-586-7163 between hours of 0600 hours, A.l.t., and the 2400 hours, A.l.t.
(l)(1)(ii) | (l)(1)(iii) Information required. A prior notice of landing must include the following: | (l)(1)(ii) Information required. A PNOL must include the following:
(l)(1)(iii)(B) | Name and permit number of the Registered Buyer who will be responsible for completion and submittal of the IFQ Landing Report(s); | Port of landing and port code from Table 14 to this part;
(l)(1)(iii)(C) | The location of the landing (port name or code). | Exact location of landing within the port, i.e., dock name, harbor name, facility name, or geographical coordinates (latitude and longitude of position in degrees and minutes).
(l)(1)(iv) | (iv) Exemption. An IFQ landing of halibut of 500 lb (0.23 mt) or less of IFQ weight determined pursuant to § 679.42(c)(2) and concurrent with a legal landing of salmon or a legal landing of lingcod harvested using dinglebar gear is exempt from the PNOL required by this section. | (iv) Exemption. An IFQ landing of halibut of 500 lb or less of IFQ weight determined pursuant to § 679.42(c)(2) and concurrent with a legal landing of salmon or a legal landing of lingcod harvested using dinglebar gear is exempt from the PNOL required by this section.

Section 679.5(l)(2) IFQ Landing Report

Reporting of IFQ harvests is accomplished through electronic submittal of an IFQ Landing Report, which may be submitted by an IFQ cardholder at an automated transaction terminal, through the Internet, and with approval by FAX. A Registered Buyer submits the Landing Report within 6 hours after all fish are landed and prior to shipment or departure of the delivery vessel from the landing site. This action would revise the regulatory text and the procedure for submittal of the IFQ Landing Report for clarity and simplicity. Similar topics are combined under one heading. In some cases, long paragraphs are divided into two paragraphs. Cross references are added to ensure ease of reading. Some telephone numbers are revised. Detailed changes to the regulatory text describing the IFQ Landing Report are presented below:

§ 679.5, paragraph | Redesignated as | No change | Revised | Removed | Added
Heading for (l)(2) |  |  | X |  |
Heading for (l)(2)(i) |  |  | X |  |
(l)(2)(i)(B) | (l)(2)(i)(A) |  | X |  |
New (l)(2)(i)(B) |  |  |  |  | X
New (l)(2)(i)(C) |  |  |  |  | X
New (l)(2)(i)(D) |  |  |  |  | X
New (l)(2)(i)(E) |  |  |  |  | X
Heading for (l)(2)(iv) | heading for (l)(2)(ii) |  | X |  |
(l)(2)(iv)(A) | (l)(2)(ii)(A) |  | X |  |
(l)(2)(iv)(B) |  |  |  | X |
(l)(2)(i)(A) | (l)(2)(ii)(B) |  |  | X |
(l)(2)(vi)(N) |  |  |  | X |
(l)(2)(vi) | (l)(2)(iii) |  |  |  |
Newly redesignated (l)(2)(iii)(B) |  |  | X |  |
Newly redesignated (l)(2)(iii)(J) |  |  | X |  |
Newly redesignated (l)(2)(iii)(K) |  |  | X |  |
Newly redesignated (l)(2)(iii)(M) |  |  | X |  |
New (l)(2)(iv) and (iv)(A) |  |  |  |  | X
(l)(2)(ii)(A) except last sentence; last sentence of (l)(2)(ii)(A); (l)(2)(ii)(B) | (l)(2)(iv)(A) |  | X |  |
(l)(2)(ii)(D) | (l)(2)(iv)(B) |  |  |  |
(l)(2)(iv)(B) heading |  |  |  |  | X
(l)(2)(vii); (l)(2)(ii)(E); (l)(2)(iii)(A); (l)(2)(vii) | (l)(2)(iv)(C) |  | X |  |
(l)(2)(iv)(D) heading |  |  |  |  | X
Third sentence of (l)(2)(ii)(C) | (l)(2)(iv)(D) |  | X |  |

Revisions to the regulatory text are presented below, showing the location of the text, the current text, and the proposed text.

Location § 679.5, paragraph | Current text | Proposed text
(l)(2) heading | Landing report | IFQ landing report
(l)(2)(i) heading | Applicability | Requirements
(l)(2)(i)(A) | (l)(2)(i)(B) All IFQ catch retained onboard a vessel at commencement of a landing must be weighed and debited from the IFQ permit holder's account under which the catch was harvested. | (l)(2)(i)(A) All IFQ catch debited. All IFQ halibut, CDQ halibut, and IFQ sablefish catch must be weighed and debited from the IFQ permit holder's account under which the catch was harvested.
(l)(2)(i)(D) | (l)(2)(ii)(C) Once landing operations have commenced, the IFQ cardholder and the harvesting vessel may not leave the landing site until the IFQ account is properly debited. . . . | (l)(2)(i)(D) Remain at landing site. Once landing operations have commenced, the IFQ cardholder and the harvesting vessel may not leave the landing site until the IFQ account is properly debited (as defined in paragraph (l)(2)(iv)(D)).
(l)(2)(i)(E) | (l)(2)(ii)(C) . . . The offloaded IFQ species may not be moved from the landing site until the IFQ landing report is received by OLE, Juneau, AK and the IFQ cardholder's account is debited. . . . | (l)(2)(i)(E) No movement of IFQ species. The offloaded IFQ species may not be properly moved from the landing site until the IFQ Landing Report is received by OLE, Juneau, AK and the IFQ cardholder's account is properly debited (as defined in paragraph (l)(2)(iv)(D)).
(l)(2)(ii) heading | (l)(2)(iv) Time limits and submittals | (l)(2)(ii) Time limits
(l)(2)(ii)(A) | (l)(2)(iv)(A) An IFQ landing may commence only between 0600 hours, A.l.t., and 1800 hours, A.l.t., unless permission to land at a different time (waiver) is granted in advance by a clearing officer. | (l)(2)(ii)(A) A landing of IFQ halibut, CDQ halibut, or IFQ sablefish may commence only between 0600 hours, A.l.t., and 1800 hours, A.l.t., unless permission to land at a different time (waiver) is granted in advance by a clearing officer.
(l)(2)(ii)(B) | (l)(2)(i)(A) A Registered Buyer must report an IFQ landing within 6 hours after all such fish are landed and prior to shipment of said fish or departure of the delivery vessel from the landing site. | (l)(2)(ii)(B) A Registered Buyer must submit a completed IFQ Landing Report within 6 hours after all such fish are landed and prior to shipment or transfer of said fish from the landing site.
(l)(2)(iii)(B) | (l)(2)(vi)(B) Location of the IFQ landing (port code or if at sea, lat. and long.) | (l)(2)(iii)(B) Location of the IFQ landing (port code or if at sea, latitude and longitude of position in degrees and minutes).
(l)(2)(iii)(J) | (l)(2)(vi)(J)(1) Except as indicated in paragraph (l)(2)(vi)(J)(2) of this section, for each ADF&G statistical area of harvest, the species codes, product codes, and initial accurate scale weight (in pounds or to the nearest thousandth of a metric ton) made at the time of offloading for IFQ species sold and retained. (l)(2)(vi)(J)(2) If the vessel operator is a Registered Buyer reporting the IFQ landing, the accurate weight of IFQ sablefish processed product obtained before the offload may be substituted for the initial accurate scale weight at time of offload. | (l)(2)(iii)(J) For each ADF&G statistical area of harvest, the species codes, product codes, and initial accurate scale weight (in pounds or to the nearest thousandth of a metric ton) made at the time of offloading for IFQ species sold and retained. Exception: if the vessel operator is the Registered Buyer reporting the IFQ landing, the accurate weight of IFQ sablefish processed product obtained before the offload may be substituted for the initial accurate scale weight at time of offload.
(l)(2)(iii)(K) | (l)(2)(vi)(K) Whether ice and slime is present on the fish as offloaded from the vessel (YES or NO). Fish which have been washed prior to weighing or which have been offloaded from refrigerated salt water are not eligible for a 2 percent deduction for ice and slime and must indicate NO SLIME & ICE. | (l)(2)(iii)(K) Whether ice and slime are present on the fish as offloaded from the vessel. Fish which have been washed prior to weighing or which have been offloaded from refrigerated salt water are not eligible for a 2 percent deduction for ice and slime and must indicate NO SLIME & ICE.
(l)(2)(iii)(M) | (l)(2)(ii)(C) . . . After the Registered Buyer enters the landing data in the transaction terminal or the Internet submission form(s) and a receipt is printed, the IFQ cardholder must sign the receipt to acknowledge the accuracy of the landing report. . . . (l)(2)(iii)(B) The manual landing report must be signed by the Registered Buyer or his/her representative, and the IFQ cardholder to acknowledge the accuracy of the landing report, and by the OLE representative to show that the IFQ cardholder's account was debited consistent with the landing report. (l)(2)(vi)(M) Signature of Registered Buyer representative. (l)(2)(vi)(N) Signature of IFQ/CDQ cardholder. | (l)(2)(iii)(M) After the Registered Buyer enters the landing data in the transaction terminal or the Internet submission form(s) or submits a manual landing report by FAX, and a receipt is printed, the Registered Buyer or his/her representative, and the IFQ cardholder must sign the receipt(s) to acknowledge the accuracy of the Landing Report.
(l)(2)(iv)(A) | (l)(2)(ii)(A) Electronic landing report. (A) Except as indicated in paragraphs (l)(2)(ii)(D) and (E) of this section, electronic landing reports must be submitted to OLE, Juneau, AK using magnetic strip cards issued by NMFS, Alaska Region, and transaction terminals with printers driven by custom-designed software as provided and/or specified by NMFS, Alaska Region. It is the responsibility of the Registered Buyer to locate or procure a transaction terminal and report as required. | (l)(2)(iv)(A) Except as indicated in paragraphs (l)(2)(iv)(B) and (C) of this section, electronic landing reports must be submitted to OLE, Juneau, AK using magnetic strip cards issued by NMFS, Alaska Region, and transaction terminals with printers driven by custom-designed software as provided and/or specified by NMFS, Alaska Region. The Registered Buyer must locate or procure a transaction terminal and report as required.
(l)(2)(iv)(C) | (l)(2)(ii)(E) Waivers from the electronic reporting requirement can only be granted in writing on a case-by-case basis by a local clearing officer (l)(2)(iii)(A) If a waiver has been granted pursuant to paragraph (l)(2)(ii) of this section, manual landing instructions must be obtained from OLE, Juneau, AK at (800) 304-4846. Completed manual landing reports must be submitted by FAX to OLE, Juneau, AK at (907) 586-7313. (l)(2)(vii) Manual landing report. When a waiver is issued pursuant to paragraph (l)(2)(ii)(A) of this section, additional information is required. In addition to the information required in paragraph (l)(2)(vi) of this section, the following information is required to complete a landing report using a manual landing report: | (l)(2)(iv)(C) Waivers from the transaction terminal or Internet reporting requirement can only be granted in writing on a case-by-case basis by a local clearing officer. If a waiver is granted, manual landing instructions must be obtained from OLE, Juneau, AK at (800) 304-4846. Registered Buyers must complete and submit manual Landing Reports by FAX to OLE, Juneau, AK at (907)586-7313. When a waiver is issued, the following additional information is required: whether the manual landing report is an original or revised; name, telephone number, and FAX number of individual submitting the manual landing report.
(l)(2)(iv)(D) | (l)(2)(ii)(C) . . . A properly concluded transaction terminal receipt, printed Internet submission receipt, or manual landing report receipt received by FAX from OLE, Juneau, AK constitutes confirmation. . . . | (l)(2)(iv)(D) Properly debited landing. A properly concluded transaction terminal receipt, printed Internet submission receipt, or manual Landing Report receipt received by FAX from OLE, Juneau, AK, and signed by the OLE representative constitutes confirmation.

Section 679.5(l)(3)

IFQ Shipment Report. This action would remove the requirement for submittal of an IFQ Shipment Report. Currently, an IFQ Shipment Report is used by OLE to monitor and inspect shipments of IFQ halibut, CDQ halibut, and IFQ sablefish to verify proper accounting for fish landings. The Shipment Report documents the first receiver of the IFQ halibut, CDQ halibut or IFQ sablefish. Each Registered Buyer, other than those conducting dockside sales, must complete and submit a written Shipment Report or a bill of lading containing the same information as a Shipment Report for each shipment or transfer of CDQ halibut, IFQ halibut and IFQ sablefish.

Currently, a groundfish PTR is used by OLE to monitor and inspect shipments of groundfish to verify proper accounting for all non-IFQ groundfish landings by documenting the first receiver of the groundfish. Each mothership, catcher/ processor, shoreside processor, or stationary floating processor must complete a written PTR for each shipment or transfer of groundfish.

This action would combine these two forms into one. Under this action, Registered Buyers would submit a PTR for transfer or shipments of all halibut and all sablefish. Groundfish processors would submit a PTR for transfer or shipments of non-IFQ groundfish. If a participant is both a groundfish processor and a Registered Buyer, he or she would submit a PTR for transfer or shipments of non-IFQ groundfish, all halibut and all sablefish. This proposed change would maintain existing data-collection, monitoring, and enforcement capabilities, while reducing the paperwork submittal and storage by the fishing industry.

The specific proposed change to the IFQ Shipment Report regulatory text is presented below: all of § 679.5(l)(3) would be removed, except that some paragraphs are indicated elsewhere as redesignated for inclusion in other sections.

IFQ Dockside Sales Receipt. Regulations pertaining to the IFQ dockside sales receipt would be moved from § 679.5(l)(3)(iv) and placed at § 679.5(l)(5). Regulatory text would be revised by removing “shipment report” and adding in its place “PTR”. The Registered Buyer must issue a dockside sales receipt in lieu of a PTR. No changes in the procedure of issuing a dockside sales receipt would occur as a result of this rule. A person holding a valid IFQ permit, CDQ halibut permit, IFQ card, and Registered Buyer permit may conduct a dockside sale of IFQ halibut or IFQ sablefish to a person who has not been issued a Registered Buyer permit. The purpose of reporting the amount of IFQ fish involved in a dockside sale is to provide OLE with the ability to monitor and inspect the shipment of IFQ fish to determine whether there was proper accounting for all IFQ fish landed.

Section 679.5(l)(4)

IFQ Transshipment Authorization. Regulations pertaining to the IFQ transshipment authorization would be moved from § 679.5(l)(4) and placed at § 679.5(l)(3). No changes in the procedure of transshipment authorization would occur as a result of this rule. Currently, if a person intends to transship processed IFQ halibut, IFQ sablefish, or CDQ halibut between vessels, authorization from a OLE clearing officer to do so must be obtained for each instance of transshipment. The request must be made at least 24 hr before the transshipment is intended to commence.

IFQ Departure Report. Regulations pertaining to the IFQ departure report would be moved from § 679.5(l)(5)(xi) and placed at § 679.5(l)(4). Some of the information originally requested as part of a Vessel Clearance would be added to the IFQ Departure Report. Instead of obtaining an IFQ Vessel Clearance at a principal port prior to departing the waters of the EEZ adjacent to the jurisdictional waters of the State of Alaska, the territorial sea of the State of Alaska, or the internal waters of the State of Alaska, a vessel operator would call OLE by telephone and provide the answers to OLE questions listed on the Departure Report. Detailed changes to the IFQ Departure Report regulatory text are presented below:

§ 679.5, paragraph | Redesignated as | No Change | Revised | Removed | Added
(l)(5)(xi) heading | (l)(4) heading |  |  |  |
(l)(4)(i) heading |  |  |  |  | X
(l)(4)(i)(A) heading |  |  |  |  | X
(l)(5)(xi)(A) | (l)(4)(i)(A) |  | X |  |
(l)(5)(vii) | (l)(4)(i)(B) |  | X |  |
(l)(5)(iii) | (l)(4)(i)(C) |  | X |  |
(l)(5)(ix) | (l)(4)(i)(D) |  | X |  |
(l)(5)(iv) | (l)(4)(i)(E) |  | X |  |
(l)(5)(viii) | (l)(4)(ii) |  | X |  |
(l)(5)(viii)(H) | (l)(4)(ii)(A) |  |  |  |
(l)(5)(viii)(B) | (l)(4)(ii)(B) |  |  |  |
(l)(5)(viii)(D) | (l)(4)(ii)(C) |  | X |  |
(l)(5)(viii)(C) | (l)(4)(ii)(D) |  | X |  |
(l)(5)(viii)(G) | (l)(4)(ii)(E) |  | X |  |
(l)(5)(viii)(E) | (l)(4)(ii)(F) |  | X |  |
(l)(5)(viii)(F) | (l)(4)(ii)(G) |  |  |  |
(l)(5)(viii)(I) |  |  |  | X |

Revisions to the regulatory text are presented below, showing the location of the text, the current text, and the proposed text.

§ 679.5, paragraph | Current text | Proposed text
(l)(4) | (l)(5)(xi) Departure report | (l)(4) Departure report.
(l)(4)(i)(A) | (l)(5)(xi)(A) A vessel operator who intends to obtain a vessel clearance outside the State of Alaska must submit an IFQ departure report, by telephone, to OLE, Juneau, AK at 907-586-7225 or 800-304-4846. | (l)(4)(i)(A) Time limit and submittal. A vessel operator who intends to make an IFQ halibut, CDQ halibut or IFQ sablefish landing at any location other than in an IFQ regulatory area or in the State of Alaska must submit an IFQ Departure Report, by telephone, to OLE, Juneau, AK at 800-304-4846 or 907-586-7163 between the hours of 0600 hours, A.l.t., and 2400 hours, A.l.t.
(l)(4)(i)(B) | (l)(5)(vii) Completion of fishing. An IFQ vessel operator who obtains an IFQ vessel clearance may only obtain that IFQ vessel clearance after completion of all fishing. If any fishing takes place after issuance of an IFQ vessel clearance, the vessel operator must obtain a new IFQ vessel clearance. | (l)(4)(i)(B) Completion of fishing. A vessel operator must submit an IFQ Departure Report after completion of all fishing and prior to departing the waters of the EEZ adjacent to the jurisdictional waters of the State of Alaska, the territorial sea of the State of Alaska, or the internal waters of the State of Alaska when IFQ halibut, CDQ halibut or IFQ sablefish are on board.
(l)(4)(i)(C) | (l)(5)(iii) A vessel operator obtaining an IFQ vessel clearance or submitting a departure report must have a Registered Buyer permit. | (l)(4)(i)(C) IFQ Registered Buyer permit. A vessel operator submitting an IFQ Departure Report must have a Registered Buyer permit.
(l)(4)(i)(D) | (ix) First landing of any species. A vessel operator must land and report all IFQ species on board at the same time and place as the first landing of any species harvested during an IFQ fishing trip. | (l)(4)(i)(D) First landing of any species. A vessel operator submitting an IFQ Departure Report must submit IFQ Landing Reports for all IFQ halibut, CDQ halibut and IFQ sablefish on board at the same time and place as the first landing of any IFQ species.
(l)(4)(i)(E) | (l)(5)(iv) IFQ permits on board. A vessel operator obtaining an IFQ vessel clearance must ensure that one or more IFQ cardholders is on board with enough remaining IFQ balance to harvest amounts of IFQ fish equal to or greater than all IFQ halibut and IFQ sablefish on board. | (l)(4)(i)(E) IFQ permits on board. A vessel operator submitting an IFQ Departure Report must ensure that one or more IFQ cardholders are on board with enough remaining IFQ balance to harvest amounts of IFQ halibut, CDQ halibut or IFQ sablefish equal to or greater than all IFQ halibut, CDQ halibut and IFQ sablefish on board.
(l)(4)(ii) | (l)(5)(viii) Required information. To obtain an IFQ vessel clearance, the vessel operator must provide the following information to the clearing officer: | (l)(4)(ii) Required information. When submitting an IFQ Departure Report, the vessel operator must provide the following information:
(l)(4)(ii)(C) | (l)(5)(viii)(D) Vessel operator's IFQ Registered Buyer permit number. | (l)(4)(ii)(C) Vessel operator's name and IFQ Registered Buyer permit number.
(l)(4)(ii)(D) | (l)(5)(viii)(C) Name and permit numbers of IFQ permits used to harvest IFQ species on board. | (l)(4)(ii)(D) Halibut IFQ permit numbers and sablefish IFQ permit numbers of IFQ cardholders on board.
(l)(4)(ii)(E) | (l)(5)(viii)(G) IFQ areas of harvest. | (l)(4)(ii)(E) Halibut Regulatory Areas or Sablefish Regulatory Areas of harvest or both.
(l)(4)(ii)(F) | (l)(5)(viii)(E) Estimated total weight of IFQ halibut on board (1b/kg/mt). | (l)(4)(ii)(F) Estimated total weight of IFQ halibut or CDQ halibut on board (lb/kg/mt).

Section 679.5(l)(5)

IFQ Vessel Clearance. OLE reports that 65 Vessel Clearances were processed in 2001. This indicates that a relatively small number of all vessels making IFQ landings would be directly regulated by this provision. The Vessel Clearance requirement would be replaced with a verbal “Departure Report” submitted by telephone prior to leaving the jurisdiction of the Council. This would mean vessels would not have to meet an OLE officer dockside at a Primary Port. A Departure Report would be required for vessels delivering their IFQ fish outside Alaska.

All of paragraph (l)(5) of this section would be removed, except that some paragraphs are indicated elsewhere as redesignated for inclusion in other sections. This action would also amend the FMPs so that the intent of the FMPs incorporates the practical limitations of OLE to meet the requirements of the FMPs. OLE personnel are not currently able to effectively determine catch quantity at the Vessel Clearance port and are unable to seal a vessel's hold without compromising vessel safety.

Landing Verification and Record Retention. In this section, all of the regulatory text regarding landing verification and record retention would be placed under (l)(5).

Section 679.5(l)(6)

Sampling. All of the regulatory text regarding sampling would be placed under (l)(6). Detailed changes are given below:

§ 679.5, paragraph | Redesignated as | No change | Revised | Removed | Added
(l)(5) heading |  |  | X |  |
first sentence of (l)(2)(v) | (l)(5)(i) |  | X |  |
(l)(6) | (l)(5)(ii) |  | X |  |
(l)(6) heading |  |  | X |  |
First sentence of (l)(2)(v) | (l)(6)(i) |  | X |  |
Second sentence of (l)(2)(v) | (l)(6)(ii) |  | X |  |

Section 679.7 Prohibitions

This action would amend § 679.7(f)(6) to include the IFQ card requirement for a hired master. In addition, § 679.7(f)(12) would be revised to change the submittal time limit for the PNOL from 6 hours to 3 hours prior notice. Detailed changes are presented below:

§ 679.7, paragraph | Redesignated as | No change | Revised | Removed | Added
(f)(6) |  |  | X |  |
(f)(12) |  |  | X |  |

Revisions to the regulatory text are presented below, showing the location of the text, the current text, and the proposed text.

Location § 679.7, paragraph | Remove . . . | Add
(f)(6) | Make an IFQ halibut, IFQ sablefish, or CDQ halibut landing without an IFQ or CDQ card in the name of the individual making the landing | Landing. (i) IFQ or CDQ card. Make an IFQ halibut, IFQ sablefish, or CDQ halibut landing without an IFQ or CDQ card in the name of the individual making the landing. (ii) Hired master. Make an IFQ halibut, IFQ sablefish, or CDQ halibut landing without an IFQ or CDQ card listing the name of the hired master and the name of the vessel making the landing.
(f)(12) | Make an IFQ landing without prior notice of landing and before 6 hours after such notice, except as provided in § 679.5 | Make an IFQ landing without a PNOL and before 3 hours after such notice, except as provided in § 679.5

Section 679.32 Groundfish and Halibut CDQ Catch Monitoring

This action would revise the reference in paragraph (f)(2)(iv) of this section to include paragraph (g) of this section for the PTR and paragraph (l) of this section for IFQ R&R. This would be necessary because participants in the CDQ halibut fishery are required to follow the IFQ regulations for R&R given in paragraph (l) of this section and requirements to file the PTR in paragraph (g) of this section.

Revisions to the regulatory text are presented below, showing the location of the text, the current text, and the proposed text.

Location § 679.32, paragraph | Remove . . . | Add
(f)(2)(iv) | A person may land halibut CDQ only if he or she has a valid halibut CDQ card, and that person may deliver halibut CDQ only to a person with a valid registered buyer permit. The person holding the halibut CDQ card and the Registered Buyer must comply with the requirements of § 679.51(l)(1) and (l)(2) | A person may land halibut CDQ only if he or she has a valid halibut CDQ card, and that person may deliver halibut CDQ only to a person with a valid registered buyer permit. The person holding the halibut CDQ card and the Registered Buyer must comply with the requirements of § 679.5(g) and (l).

Section 679.42 Limitations on Use of QS and IFQ

This action would correct the regulatory text of § 679.42 by removing incorrect reference to § 679.42(k), by separating the text into numbered subparagraphs, and by correcting the metric “equivalent” to 5,000 lb. The amounts described by pounds and metric tons are not equal, and this regulation is stating an exact amount in both pounds and metric tons. Other detailed changes for § 679.42 are presented below:

§ 679.42, paragraph | Redesignated as | No change | Revised | Removed | Added
(a) |  |  | X |  |
(c)(1)(ii) |  |  | X |  |
(c)(1)(iv) |  |  | X |  |
(c)(2)(i) |  |  | X |  |

Revisions to the regulatory text are presented below, showing the location of the text, the current text, and the proposed text.

Location § 679.42, paragraph | Current text | Proposed text
(a) | The QS or IFQ specified for one IFQ regulatory area must not be used in a different IFQ regulatory area. Except as provided in paragraph (k) of this section or in § 679.41(i)(1) of this part, the IFQ assigned to one vessel category must not be used to harvest IFQ species on a vessel of a different vessel category. Notwithstanding § 679.40(a)(5)(ii) of this part, IFQ assigned to vessel Category B must not be used on any vessel less than or equal to 60 ft (18.3 m) LOA to harvest IFQ halibut in IFQ regulatory area 2C or IFQ sablefish in the IFQ regulatory area east of 140° W. long. unless such IFQ derives from blocked QS units that result in IFQ of less than 5,000 lb (2.3 mt), based on the 1996 TAC for fixed gear specified for the IFQ halibut fishery and the IFQ sablefish fishery in each of these two regulatory areas | (1) The QS or IFQ specified for one IFQ regulatory area must not be used in a different IFQ regulatory area. (2) Except as provided in § 679.41(i)(1) of this part, the IFQ assigned to one vessel category must not be used to harvest IFQ species on a vessel of a different vessel category. (3) Notwithstanding § 679.40(a)(5)(ii) of this part, IFQ assigned to vessel Category B must not be used on any vessel less than or equal to 60 ft (18.3 m) LOA to harvest IFQ halibut in IFQ regulatory area 2C or IFQ sablefish in the IFQ regulatory area east of 140° W. long. unless such IFQ derives from blocked QS units that result in IFQ of less than 5,000 lb, based on the 1996 TAC for fixed gear specified for the IFQ halibut fishery and the IFQ sablefish fishery in each of these two regulatory areas.
(c)(1)(ii) | Be aboard the vessel at all times during the fishing operation | Be aboard the vessel at all times during the fishing trip and present during the landing.
(c)(1)(iv) | Sign the IFQ landing report required by § 679.5(l)(2)(ii)(C) and (iii)(B) | Sign the IFQ Landing Report required by § 679.5(l)(2)(iv)(D).
(c)(2)(i) | Except as provided in § 679.5(l)(2)(vi)(J)(2), if offload of unprocessed IFQ halibut, CDQ halibut or IFQ sablefish from a vessel, the scale weight of the halibut or sablefish product actually measured at the time of offload, as required by § 679.5(l)(2)(vi) to be included in the IFQ Landing Report | Except as provided in § 679.5(l)(2)(iii)(J), if offload of unprocessed IFQ halibut, CDQ halibut or IFQ sablefish from a vessel, the scale weight of the halibut or sablefish product actually measured at the time of offload, as required by § 679.5(l)(2)(iii) to be included in the IFQ Landing Report.

Section 679.43 Determinations and Appeals

In addition to the changes in R&R for groundfish and the IFQ Program, paragraph 679.43(c) would be revised to correct the address for the Office of Administrative Appeals.

Revisions to the regulatory text are presented below, showing the location of the text, the current text, and the proposed text.

Paragraph | Current text | Proposed text
679.43(c) | Appeals must be in writing and must be submitted to the Office of Administrative Appeals, P.O. Box 21668, Juneau, AK 99802 or delivered to: Federal Building, 709 West 9th St., Room 801, Juneau, AK. | Appeals must be in writing and must be mailed to the: National Marine Fisheries Service, Office of Administrative Appeals, P.O. Box 21668, Juneau, AK 99802-1668 or delivered to: National Marine Fisheries Service, Attention: Appeals (OAA) 709 West 9th St., Room 453, Juneau, AK 99801.

Tables

Tables 14a, b, and c to 50 CFR part 679 are revised by removing the coordinates and indications for IFQ primary ports of landing and by indicating “other” for each State and Canada. The port of Vancouver, Canada, and code number 803 are added to Table 14b.

Classification

This proposed rule has been determined to be not significant for purposes of E.O. 12866.

This rule does not duplicate, overlap, or conflict with other Federal regulations.

This rule contains collection-of-information requirements subject to the Paperwork Reduction Act (PRA) and which have been approved by OMB. These requirements are listed by OMB control number.

OMB No. 0648-0272. These requirements and their associated burden estimates per response are: 18 minutes for Landing Report and 12 minutes for Transshipment Authorization.

This proposed rule also contains revised requirements that have been submitted to OMB for approval. These requirements are listed by OMB control number.

OMB No. 0648-0213. This requirement and its associated burden estimate per response is: 14 minutes for Vessel Activity Report.

OMB No. 0648-0272. These revised requirements and their associated burden estimates per response are: 12 minutes for IFQ Prior Notice of Landing; 6 minutes for IFQ Departure Report; 6 minutes for IFQ Dockside sales receipt; 18 minutes for Shipment Report are removed; and 12 minutes for Vessel Clearance are removed.

OMB No. 0648-0213. This revised requirement and its associated burden estimate per response is: 20 minutes for Product Transfer Report.

Response times include the time for reviewing instructions, searching existing data sources, gathering and maintaining the data needed, and completing and reviewing the collection of information.

Public comment is sought regarding: Whether this proposed collection of information is necessary for the proper performance of the functions of the agency, including whether the information shall have practical utility; the accuracy of the burden estimate; ways to enhance the quality, utility, and clarity of the information to be collected; and ways to minimize the burden of the collection of information, including through the use of automated collection techniques or other forms of information technology.

Send comments on these or any other aspects of the collection of information to NMFS, Alaska Region (see ADDRESSES), and to OMB at the Office of Information and Regulatory Affairs, Office of Management and Budget, Washington, DC 20503 (Attention: NOAA Desk Officer).

Notwithstanding any other provision of the law, no person is required to respond to, nor shall any person be subject to a penalty for failure to comply with, a collection of information subject to the requirements of the PRA, unless that collection of information displays a currently valid OMB Control Number.

In general, these actions would improve the efficiency of data collection required under existing IFQ regulations and stem from a joint collaboration of the NOAA Office of Law Enforcement (OLE), Alaska Region, and members of the affected industry. Together, they agreed to changes to the R&R requirements for the IFQ program. These changes were further reviewed by the United States Coast Guard, the Council, and the International Pacific Halibut Commission. An IFQ Implementation Team has recommended adoption of these measures to the Council.

These actions would result in removing the IFQ Shipment Report and IFQ Vessel Clearance. As a consequence of their removal, other forms such as the IFQ Landing Report, IFQ Prior Notice of Landing, IFQ Departure Report, the Product Transfer Report and Vessel Activity Report are proposed to be changed. Definitions for “authorized officer”, “clearing officer” and “IFQ landing” would be revised. Overall, these changes will result in improved economic efficiency for the affected fisheries by allowing the vessel operators additional time to find competitive prices at the processors. Furthermore, the action would relieve burdens on small entities, as concluded in the Regulatory Impact Review (RIR), by simplifying, combining and clarifying reporting forms and requirements.

NMFS determined that this proposed rule warrants a Categorical Exclusion from National Environmental Policy Act (NEPA) requirements for an EA. The changes proposed in this action are consistent with the intent and purpose of the Halibut Act with respect to halibut, the Magnuson-Stevens Act with respect to sablefish, and the groundfish FMPs.

These proposed actions—FMP amendments and amendment to regulations promulgated under the Groundfish FMP and Halibut Act—have been evaluated to determine the appropriateness of a Categorical Exclusion for preparation of a NEPA analysis. According to agency NEPA guidance found at NAO 216-6, Section 5.05b, to qualify for a categorical exclusion from NEPA analysis, this agency needs to determine if (1) a prior NEPA analysis for the same action demonstrated that the action will not have significant impacts on the quality of the human environment; or (2) the proposed action is likely to result in significant impacts as defined in 40 CFR 1508.27. Further, according to section 6.02 of NAO 216-6, an action is disqualified from Categorical Exclusions for several reasons, including: (1) The action may be reasonably expected to jeopardize the sustainability of any target or non-target species that may be affected by the action; (2) the action may reasonably be expected to cause substantial damage to the ocean and coastal habitats and/or essential fish habitats defined under the MSA and identified in the FMPs; (3) the action may be reasonably expected to have a substantial adverse impact on public health or safety; (4) the action may be reasonably expected to adversely affect endangered or threatened species, marine mammals, or critical habitat of these species; (5) the action may be reasonably expected to result in cumulative effects that could have a substantial effect on the target species or non-target species; (6) the action may be expected to have a substantial impact on biodiversity and ecosystem function within the affected area; (7) if significant social or economic impacts are interrelated with significant natural or physical environmental effects than an Environmental Impact Statement (EIS) should discuss all the effects on the human environment; and (8) the degree to which the effects on the quality of the human environment are likely to be highly controversial.

For the following reasons, and in consideration of guidance under NAO 216-6, the prior NEPA analyses—the SEIS for Groundfish of the GOA and the SEIS for the Halibut IFQ program—provide sufficient analysis of the direct, indirect and cumulative impacts of the recordkeeping and reporting component to the IFQ fisheries affected here. Further, none of the considerations under section 6.02 exist here given: (1) The nature of the action and its goals, that is that the action is a refinement of recordkeeping and reporting and seeks to reduce the time required for complying with such; and (2) that the action will reduce the window of time required for vessels to alert the agency that they will be offloading catch at processors.

As determined in the accompanying RIR and IRFA analyses, conservation and management goals will be unaffected by the actions. The actions will not affect public health and safety and are not controversial. Because the actions do not alter fishing but rather landings and reporting, the actions will not affect the target or non-target species that are caught pursuant to the IFQ programs affected here. The actions do not establish any precedent or decision in principle about future proposals or result in cumulatively significant impacts nor have any adverse impacts on endangered or threatened species or their habitats.

In conclusion, these actions would improve the efficiency of data collection required under existing IFQ regulations and would implement those recommendations received from industry, enforcement and management. Based on the foregoing conclusions, these revisions to recordkeeping and reporting for the IFQ fisheries would not substantively alter environmental impacts already analyzed within existing environmental documents.

NMFS prepared an initial regulatory flexibility analysis that describes the impact this proposed rule, if adopted, would have on small entities.

The legislative authority for these actions is the Magnuson-Stevens Fishery Conservation and Management Act, Public Law (Pub. L.) 94-265, 16 U.S.C. 1801 (Magnuson-Stevens Act), and the Northern Pacific Halibut Act of 1982 (NPHA) Public Law 97-176, 16 U.S.C. 773 c (c).

Action 1

Under current regulations, operators of vessels making halibut or sablefish IFQ landings must notify the NOAA Fisheries Office for Law Enforcement six hours before the landing and must include the name of the Registered Buyer to whom they are delivering the IFQ fish. These regulations have been found to put IFQ fishermen at a disadvantage in their negotiations with Registered Buyers, to make it more difficult for Registered Buyers to market fresh product, and to reduce the ability of IFQ fishermen to respond to changing business conditions. The preferred alternative for this action would address these problems by reducing the notification time from six hours to three, and by eliminating the requirement that persons landing IFQ fish include the name of the Registered Buyer in the notification. Persons landing IFQ fish only would have to include the location of the landing in the notification.

The maximum number of directly regulated small entities would be approximately 3,485 holders of halibut QS, and 872 holders of sablefish QS. In addition, all six of the CDQ groups hold CDQ halibut QS and would be directly regulated. A total of 270 individual fishermen landed CDQ halibut in 2001 and may be directly regulated by this regulatory change. NMFS/RAM issued 694 permits for Registered Buyers in 2001, and, of these, 215 reported landings. Registered Buyers also would be directly regulated by this change.

In general, this proposed rule would relieve burdens on small entities, especially vessel owners of IFQ's. Proposed changes may contribute to increased competition in the delivery market for IFQ halibut and sablefish and thus may have some adverse impact on less economically efficient Registered Buyers. There are no data available on whether or not this impact will occur, or on how serious it may be.

This action does not impose new record keeping requirements or duplicate, overlap or conflict with other Federal rules. NMFS considered an alternative to totally eliminate the prior notice of landing requirement. This might have relieved more of the burden on small entities (although it might still have adversely impacted less efficient Registered Buyers). However, this alternative would have adversely affected data-collection, monitoring, and enforcement operations. NMFS also considered an alternative to randomly apply the prior notice requirements to vessels. Under this system, some vessels would be relieved of a prior notice burden, but all vessels would have been subjected to additional “hail-out” reporting burdens when they put to sea. Port-sampling might be adversely impacted, with biases introduced into sampling methods that might affect the quality of data used in stock assessments. Therefore, neither of these alternatives was chosen as the preferred alternative.

Action 2

At the present time, vessels may only begin to land IFQ catch between 6 a.m. and 6 p.m. (the “offload window”). Industry has expressed an interest in extending the offload window later in the evening. However, industry has also indicated that if the preferred alternative in Action 1 were taken, the flexibility provided would make it unnecessary to extend the window. The preferred alternative, therefore, is continuation of the status quo.

The maximum number of affected small entities would be the approximately 3,485 persons (individuals, corporations, and other entities) who held halibut QS; 872 persons held sablefish QS. In addition, all six of the CDQ groups that hold CDQ halibut would be affected. A total of 270 individuals landed CDQ halibut in 2001 and may be affected by this regulation. NMFS/RAM issued 694 permits for Registered Buyers in 2001, and, of these, 215 reported landings. Registered Buyers also would be affected by this change in regulation.

This action does not appear to have an adverse impact on small entities. This action does not impose new record keeping requirements or duplicate, overlap, or conflict with other Federal rules.

Action 3

The preferred alternative for this action eliminates the requirement for vessels to pull into port to obtain a vessel clearance prior to leaving the EEZ off Alaska. IFQ permit holders state that the requirement is onerous and costly when they have to divert to come dockside for a clearance. They also say there are not enough port options for obtaining clearance in a timely fashion. The objective of this action is to reduce the burden on fishermen by substituting a verbal “departure report” for the currently-required vessel clearance. A verbal report would not diminish the ability to monitor and enforce catch reporting/quota requirements on vessels leaving the jurisdiction of the Council since other reporting mechanisms are available in the port of delivery to monitor those vessels.

As proposed, this preferred alternative for Action 3 would directly regulate the 1,451 unique vessels which made IFQ halibut landings, and 433 unique vessels which made sablefish landings in 2001. OLE reports that 65 vessel clearances were processed in 2001. This indicates that a relatively small number of all vessels making IFQ landings would be directly regulated by this provision, because to obtain the highest quality product, vessels generally offload halibut as soon as possible at a port of Alaska.

NMFS has not identified any adverse impacts to small entities from this action. It does not impose new record keeping requirements or duplicate, overlap or conflict with other federal rules. NMFS is not aware of any alternatives in addition to the alternatives considered that would accomplish the objectives of the Magnuson-Stevens Act and other applicable statutes and that would minimize the economic impact of the proposed rule on small entities.

Action 4

Regulations currently require that Registered Buyers of IFQ sablefish and halibut and CDQ sablefish report landings on a shipment report. Processors are required to report groundfish landings on a separate product transfer report (PTR). Those processors that are also Registered Buyers must submit a PTR for groundfish and a shipment report for IFQ halibut and sablefish and for CDQ halibut. The IFQ fishing industry has expressed concern that this report is duplicative. The purpose of this action is to improve the transfer procedure paperwork and to eliminate some occurrence of duplication. For example under current regulations, an offload of IFQ halibut or sablefish generally also includes incidental groundfish harvest. A PTR is created for the incidental groundfish; a shipment report is created for the IFQ halibut or sablefish. In other words, two pieces of paper document one offload. With the proposed combination of the IFQ shipment report and the groundfish product transfer report, both the IFQ fish and the incidental groundfish would be reported on one document.

As proposed, the preferred alternative for action 4 would directly regulate Registered Buyers, all of whom are assumed to be “small business,” based upon RFA criteria. NMFS/RAM issued 694 permits for Registered Buyers in 2001, and, of these, 215 reported landings. Therefore, some multiple of 215 shipment reports and an estimated two-thirds of these, or 144 PTRs, were submitted by Registered Buyers in 2001. The proposed change would eliminate the 144 PTRs.

This action would impose no adverse impacts on small entities, and it does not appear to impose new record keeping requirements or duplicate, overlap, or conflict with other Federal rules.

A copy of this analysis is available from NMFS (see ADDRESSES).

List of Subjects in 50 CFR Part 679

Alaska, Fisheries, Recordkeeping and reporting requirements.

Dated: January 6, 2003.
Rebecca Lent,
Deputy Assistant Administrator for Regulatory Programs, National Marine Fisheries Service.

For the reasons set forth in the preamble, 50 CFR part 679 is proposed to be amended as follows:

PART 679—FISHERIES OF THE EXCLUSIVE ECONOMIC ZONE OFF ALASKA

1. The authority citation for 50 CFR part 679 continues to read as follows:

Authority: 16 U.S.C. 773 et seq., 1801 et seq., and 3631 et seq.

2. In § 679.2, revise in alphabetical order the definitions for “Authorized officer,” “Clearing officer,” “IFQ landing,” “IFQ Permit Holder,” “IFQ Registered Buyer,” and “Transfer” to read as follows:

§ 679.2 Definitions.

Authorized officer means:

(1) Any commissioned, warrant, or petty officer of the USCG;

(2) Any special agent or fishery enforcement officer of NMFS;

(3) Any officer designated by the head of any Federal or state agency that has entered into an agreement with the Secretary and the Commandant of the USCG to enforce the provisions of the Magnuson-Stevens Act or any other statute administered by NOAA; or

(4) Any USCG personnel accompanying and acting under the direction of any person described in paragraph (1) of this definition.

* * * * *

Clearing officer means, a NOAA Fisheries Office for Law Enforcement (OLE) special agent, an OLE fishery enforcement officer, or an OLE enforcement aide.

* * * * *

IFQ landing means, the unloading or transferring of any IFQ halibut, CDQ halibut, IFQ sablefish, or products thereof from the vessel that harvested such fish or the removal from the water of a vessel containing IFQ halibut, CDQ halibut, IFQ sablefish, or products thereof.

IFQ permit holder means the person identified on an IFQ permit, at the time a landing is made, as defined at § 679.4(d)(1).

* * * * *

IFQ registered buyer means the person identified on a Registered Buyer permit, as defined at § 679.4(d)(3).

* * * * *

Transfer means:

(1) Groundfish fisheries of the GOA and BSAI. Any loading, offloading, shipment or receipt of any groundfish product by a mothership, catcher/processor, shoreside processor, or stationary floating processor, including quantities transferred inside or outside the EEZ, within any state's territorial waters, within the internal waters of any state, at any shoreside processor, stationary floating processor, or at any offsite meal reduction plant.

(2) IFQ halibut, CDQ halibut, IFQ sablefish. Any loading, offloading, shipment or receipt of any IFQ halibut, CDQ halibut, IFQ sablefish product, including quantities transferred inside or outside the EEZ, within any state's territorial waters, within the internal waters of any state, at any shoreside processor, stationary floating processor, or at any offsite meal reduction plant.

* * * * *

3. In § 679.4, paragraph (d) is revised to read as follows:

§ 679.4 Permits.

* * * * *

(d) IFQ permits, IFQ cards, and IFQ Registered Buyer permits. The permits and cards described in this section are required in addition to the permit and licensing requirements prescribed in the annual management measures published in the Federal Register pursuant to § 300.62 of chapter III of this title and in the permit requirements of this section.

(1) IFQ permit. (i) An IFQ permit authorizes the person identified on the permit to harvest IFQ halibut or IFQ sablefish from a specified IFQ regulatory area at any time during an open fishing season during the fishing year for which the IFQ permit is issued until the amount harvested is equal to the amount specified under the permit, or until it is revoked, suspended, or modified under 15 CFR part 904.

(ii) A legible copy of any IFQ permit that specifies the IFQ regulatory area and vessel length overall from which IFQ halibut or IFQ sablefish may be harvested by the IFQ permit holder must be carried on board the vessel used by the permitted person to harvest IFQ halibut or IFQ sablefish at all times that such fish are retained on board.

(2) IFQ card. (i) An IFQ card authorizes the individual identified on the card to land IFQ halibut or IFQ sablefish for debit against the specified IFQ permit until the card expires, or is revoked, suspended, or modified under 15 CFR part 904, or cancelled on request of the IFQ permit holder.

(ii) An original IFQ card issued by the Regional Administrator must be on board the vessel that harvests IFQ halibut or IFQ sablefish at all times that such fish are retained on board. Except as specified in § 679.42(d), an individual that is issued an IFQ card must remain aboard the vessel used to harvest IFQ halibut or IFQ sablefish with that card during the IFQ fishing trip and at the landing site during all IFQ landings.

(iii) Each IFQ card issued by the Regional Administrator will display an IFQ permit number, the name of the individual authorized by the IFQ permit holder to land IFQ halibut or IFQ sablefish for debit against the permit holder's IFQ. In addition, IFQ cards issued to hired masters representing permit holders per § 679.42(i) and (j) will also display the ADF&G vessel identification number of the authorized vessel.

(3) Registered Buyer permit. (i) A Registered Buyer permit authorizes the person identified on the permit to receive and make an IFQ landing by an IFQ permit or card holder at any time during the fishing year for which it is issued until the Registered Buyer permit expires, or is revoked, suspended, or modified under 15 CFR part 904.

(ii) A Registered Buyer permit is required of:

(A) Any person who receives IFQ halibut, CDQ halibut or IFQ sablefish from the person(s) who harvested the fish;

(B) Any person who harvests IFQ halibut or IFQ sablefish and transfers such fish in a dockside sale, outside of an IFQ regulatory area, or outside the State of Alaska.

(C) A vessel operator who submits a Departure Report (see § 679.5(l)(4))

(iii) A Registered Buyer permit is issued on a 3-year cycle by the Regional Administrator to persons that have a Registered Buyer application approved by the Regional Administrator.

(iv) A Registered Buyer permit is in effect from the date of issuance through the end of the current NMFS 3-year cycle, unless it is revoked, suspended, or modified under § 600.735 or § 600.740 of this chapter.

(4) Issuance. The Regional Administrator will renew IFQ permits and cards annually or at other times as needed to accommodate transfers, revocations, appeals resolution, and other changes in QS or IFQ holdings, and designation of masters under § 679.42.

(5) Transfer. The quota shares and IFQ issued under this section are not transferable, except as provided under § 679.41. IFQ cards and Registered Buyer permits issued under this paragraph (d) are not transferable.

(6) Inspection. (i) IFQ permit and card. The IFQ cardholder must present a copy of the IFQ permit and the original IFQ card for inspection on request of any authorized officer or Registered Buyer receiving IFQ species. Nothing in this paragraph would prevent an individual who is issued an IFQ card from being absent from the vessel used to harvest IFQ halibut or IFQ sablefish from the time the vessel arrives at the point of landing and the commencement of landing.

(ii) Registered Buyer permit. A legible copy of the Registered Buyer permit must be present at the location of an IFQ landing and must be made available by the Registered Buyer's representative for inspection on request of any authorized officer.

(7) Validity. An IFQ permit issued under this part is valid only if all IFQ fee liability of the IFQ permit holder that is due as a result of final agency action has been paid as specified in §§ 679.45 and 679.5(l)(7)(ii).

* * * * *

4. In § 679.5, paragraphs (a)(1)(ii)(A) and (B), (a)(15), (g), (k), and (l) are revised to read as follows:

§ 679.5 Recordkeeping and reporting.

(a) * * *

(1) * * *

(ii) * * *

(A) Groundfish received. A shoreside processor, stationary floating processor, mothership, or buying station subject to recordkeeping and reporting requirements must report all groundfish and prohibited species received, including fish received from vessels not required to have a federal fisheries permit; and fish received under contract for handling or processing for another processor.

(B) Groundfish transferred. A shoreside processor, stationary floating processor, or mothership subject to recordkeeping and reporting requirements must report all groundfish and prohibited species transferred out of the facility or off the vessel.

* * * * *

(15) IFQ/groundfish transfer comparison. The operator, manager, or Registered Buyer may refer to the following table for submittal, issuance, and possession requirements for each type of IFQ or non-IFQ groundfish transfer activity. The locations of the paragraphs that describe the requirements of each activity are also given.

| Submittal: VAR | Submittal: PTR | Submittal: IFQ Trans-shipment Authorization | Issue: IFQ Departure Report | Issue: IFQ Dockside Sale Receipt | Possess: IFQ Landing Report Receipt
(i) If a catcher vessel, mothership or catcher/processor leaving or entering Alaska with non-IFQ groundfish and no IFQ product onboard (see § 679.5(k))) | X |  |  |  |  |
(ii) If a vessel leaving Alaska with IFQ sablefish or IFQ halibut but no other non-IFQ groundfish onboard (see § 679.5(l)(4)) |  |  |  | X |  |
(iii) If a vessel leaving Alaska with IFQ sablefish or IFQ halibut and other non-IFQ groundfish onboard (see § 679.5(k) and 679.5(l)(4)) | X |  |  | X |  |
(iv) Transfer of non-IFQ groundfish (see § 679.5(g)) |  | X |  |  |  |
(v) Transfer of IFQ species from an IFQ Registered Buyer (see § 679.5(g)) |  | X |  |  |  |
(vi) Transfer of IFQ species from IFQ Cardholder with a IFQ Registered Buyer permit in a dockside sale (see § 679.5(l)(5)) |  |  |  |  | XXX |
(vii) Transfer of IFQ species from landing site to IFQ Registered Buyer's processing facility (see § 679.5(g)(1)(vi)) |  |  |  |  |  | XX
(viii) Transfer of IFQ processed product between vessels (see § 679.5(l)(3)) |  |  | XXXX |  |  |
X Indicates under what circumstances each report is submitted;
XX Indicates that the document must accompany the transfer of IFQ species from landing site to processor;
XXX Indicates receipt must be issued to each receiver in a dockside sale;
XXXX Indicates authorization must be obtained.

* * * * *

(g) Product Transfer Report (PTR). (1) General Requirements. Except as provided in paragraphs (g)(1)(i) through (vi) of this section, the operator of a mothership or catcher/processor, the manager of a shoreside processor or stationary floating processor must complete and submit a separate PTR for each transfer (shipment or receipt) of groundfish and donated prohibited species caught in groundfish fisheries. In addition, IFQ Registered Buyers must submit a separate PTR for each transfer (shipment only) of halibut or sablefish for which the Registered Buyer submitted an IFQ or CDQ Landing Report or was required to submit an IFQ or CDQ Landing Report. A PTR is not required to accompany a shipment or transfer.

(i) Exemption: Bait sales (non-IFQ groundfish only). The operator or manager may aggregate individual sales or transfers of non-IFQ groundfish to vessels for bait purposes during a day onto one PTR when recording the amount of such bait product leaving a facility that day.

(ii) Exemption: Retail sales. For retail sales destined for human consumption and weighing less than 10 lb or 4.5 kilograms, the operator, manager, or IFQ Registered Buyer may aggregate and record on one PTR, the amount of such retail product transferred during one calendar day.

(iii) Exemption: Wholesale sales (non-IFQ groundfish only). The operator or manager may aggregate and record on one PTR, wholesale sales of non-IFQ groundfish by species when recording the amount of such wholesale species leaving a facility in one calendar day, if invoices detailing destinations for all of the product are available for inspection by an authorized officer.

(iv) Exemption: IFQ Registered Buyers. IFQ Registered Buyers are not required to submit a PTR for “receipt” of IFQ halibut, CDQ halibut, or IFQ sablefish.

(v) Exemption: Dockside sales (IFQ only). (A) A person holding a valid IFQ permit, IFQ card, and IFQ Registered Buyer permit may conduct a dockside sale of IFQ halibut or IFQ sablefish to a person who has not been issued an IFQ Registered Buyer permit.

(B) An IFQ Registered Buyer conducting dockside sales must issue a receipt to each individual receiving IFQ halibut or IFQ sablefish in lieu of a PTR. This receipt must include the date of sale or transfer, the IFQ Registered Buyer permit number, and the weight by product of the IFQ sablefish or IFQ halibut transferred.

(vi) Exemption: transfer directly from the landing site to a processing facility (IFQ only). A PTR is not required for transportation of unprocessed IFQ species directly from the landing site to a processing facility for processing the IFQ species, provided the following conditions are met:

(A) A copy of the IFQ Landing Report receipt (Internet or transaction terminal receipt) documenting the IFQ landing accompanies the offloaded IFQ species while in transit.

(B) A copy of the IFQ Landing Report receipt is available for inspection by an authorized officer.

(C) For IFQ species transported in this manner, the IFQ Registered Buyer submitting the IFQ Landing Report must still complete a PTR for each transfer of IFQ halibut and IFQ sablefish from the processing facility.

(2) Time limits and submittal. The operator of a mothership or catcher/processor, an IFQ Registered Buyer, or manager of a shoreside processor or stationary floating processor must:

(i) Record on PTR. Record all product transfer information on a PTR within 2 hours of the completion of the transfer.

(ii) Submit original PTR. Submit by FAX or electronic file a copy of each PTR to OLE, Juneau, AK (907-586-7313), by 1200 hours, A.l.t., on the Tuesday following the end of the applicable weekly reporting period in which the transfer occurred.

(iii) Submit revised PTR. Ensure that, if any information on the original PTR changes prior to the first destination of the shipment, a revised PTR is submitted by FAX or electronic file to OLE, Juneau, AK (907-586-7313), by 1200 hours, A.l.t., on the Tuesday following the end of the applicable weekly reporting period in which the change occurred.

(3) General information. The operator, manager, or IFQ Registered Buyer must record on a PTR:

(i) Whether original or revised PTR;

(ii) Whether you are the shipper or receiver;

(iii) Whether the shipment or receipt is for any combination of non-IFQ groundfish, IFQ products, or CDQ halibut products and record information for each product transferred per paragraph 679.5(g)(4) through (7). If shipment consists of donated prohibited species caught while participating in groundfish fisheries, mark the box “groundfish.”

(4) Receiver information. If documenting receipt of non-IFQ groundfish, the operator or manager must check “Receiver'; enter your representative's name, telephone number, and FAX number; start and finish date and time of product transfer, position of product transfer (if applicable), port or location of transfer and:

Enter under “Receiver” | Enter under “Shipper”
Your processor's name and Federal fisheries or Federal processor permit | Other processor's name, and Federal fisheries or Federal processor permit (if applicable).

(5)(i) Shipper Information. If documenting transfer of product away from your facility or transfer of product off of your vessel, the operator, manager, or IFQ Registered Buyer must enter your representative's name, telephone number, and FAX number, check “Shipper” and:

If you are shipping | Enter under “Shipper”
(A) Non-IFQ groundfish | Your processor's name, Federal fisheries or Federal processor permit number.
(B) IFQ halibut, CDQ halibut or IFQ sablefish | IFQ Registered Buyer name and permit number.
(C) Both non-IFQ groundfish and IFQ halibut, CDQ halibut or IFQ sablefish on the same PTR | Your processor's name and Federal fisheries permit number or Federal processor permit number; or your IFQ Registered Buyer's name and permit number.

(ii) Using descriptions from the following table, enter receiver information, date and time of product transfer, location of product transfer e.g., port, position coordinates, or city), mode of transportation, and intended route.

If you are the shipper and ... | Then enter ...: Receiver | Then enter ...: Date & Time of Product Transfer | Then enter ...: Location of Product Transfer | Then enter ...: Mode of Transportation & Intended Route
(A) Receiver is on land and transfer involves one van, truck, or vehicle | Receiver name and Federal fisheries or Federal processor permit number (if any) | Date and time when shipment leaves the plant | Port or city of product transfer | Name of the shipping company; destination city and state or foreign country.
(B) Receiver is on land and transfer involves multiple vans or trucks | Receiver name and Federal fisheries or Federal processor permit number (if any) | Date and time when loading of vans or trucks is completed each day | Port or city of product transfer | Name of the shipping company; destination city and state or foreign country.
(C) Receiver is on land and transfer involves one airline flight | Receiver name and Federal fisheries or Federal processor permit number (if any) | Date and time when shipment leaves the plant | Port or city of product transfer | Name of the airline company; destination airport city and state.
(D) Receiver is on land and transfer involves multiple airline flights | Receiver name and Federal fisheries or Federal processor permit number (if any) | Date and time of shipment when the last airline flight of the day leaves | Port or city of product transfer | Name of the airline company(s); destination airport(s) city and state.
(E) Receiver is a vessel and transfer occurs at sea | Vessel name and call sign | Start and finish dates and times of transfer | Transfer position coordinates in latitude and longitude, in degrees and minutes | The first destination of the vessel.
(F) Receiver is a vessel and transfer takes place in port | Vessel name and call sign | Start and finish dates and times of transfer | Port or position of product transfer | The first destination of the vessel.
(G) Receiver is an agent (buyer, distributor, or shipping agent) and transfer is in a containerized van | Agent name and location (city, state) | Transfer start and finish dates and times | Port, city, or position of product transfer | Name (if available) of the vessel transporting the van; destination port.
(H) You are aggregating individual retail sales for human consumption in quantities less than 10 lb (0.0045 mt) per sale during a day onto one PTR | “RETAIL SALES” | Time of the first sale of the day; time of the last sale of the day | Port or city of product transfer | n/a.
(I) You are aggregating individual bait sales during a day onto one PTR (non-IFQ groundfish only) | “BAIT SALES” | Time of the first sale of the day; time of the last sale of the day | Port or city of product transfer | n/a/.
(J) Non-IFQ Groundfish only. You are aggregating wholesale non-IFQ groundfish product sales by species during a single day onto one PTR and maintaining invoices detailing destinations for all of the product for inspection by an authorized officer | “WHOLESALE SALES” | Time of the first sale of the day; time of the last sale of the day | Port or city of product transfer | n/a.

(6) Products shipped or received. The operator, manager, or IFQ Registered Buyer must record the following information for each product transferred:

(i) Species code and product code. The species code and product code (Tables 1 and 2 to this part).

(ii) Species weight. Use only if recording two or more species with one or more product types contained within the same production unit. Enter the actual scale weight of each product of each species to the nearest kilogram or pound (indicate which). If not applicable, enter “n/a” in the species weight column. If using more than one line to record species in one carton, use a brace “}” to tie the carton information together.

(iii) Number of units. Total number of production units (blocks, trays, pans, individual fish, boxes, or cartons; if iced, enter number of totes or containers).

(iv) Unit weight. Unit weight (average weight of single production unit as listed in “No. of Units” less packing materials) for each species and product code in kilograms or pounds (indicate which).

(v) Total weight. Total weight for each species and product code of shipment less packing materials in kilograms or pounds (indicate which).

(7) Total or partial offload. (i) If a mothership or catcher/processor, the operator must indicate whether the transfer is a total or partial offload.

(ii) If a partial offload, for the products remaining on board after the transfer, the operator must enter: species code, product code, and total product weight to the nearest kilogram or pound (indicate which) for each product.

* * * * *

(k) U.S. Vessel Activity Report (VAR)—(1) Who needs to submit a VAR?—(i) Fish or fish product onboard. Except as noted in paragraph (k)(1)(iv) of this section, the operator of a catcher vessel greater than 60 ft (18.3 m) LOA, a catcher/processor, or a mothership required to hold a Federal fisheries permit issued under this part and carrying fish or fish product onboard must complete and submit a VAR by FAX or electronic file to OLE, Juneau, AK (907-586-7313) before the vessel crosses the seaward boundary of the EEZ off Alaska or crosses the U.S.-Canadian international boundary between Alaska and British Columbia.

(ii) Combination of non-IFQ groundfish, IFQ halibut, CDQ halibut, and IFQ sablefish. If a vessel is carrying non-IFQ groundfish and IFQ halibut, CDQ halibut or IFQ sablefish, the operator must submit a VAR in addition to an IFQ Departure Report per paragraph (l)(4) of this section.

(iii) Revised VAR. If fish or fish products are landed at a port other than the one specified on the VAR, the vessel operator must submit a revised VAR showing the actual port of landing before any fish are offloaded.

(iv) Exemption: IFQ Departure Report. If a vessel is carrying only IFQ halibut, CDQ halibut, or IFQ sablefish onboard and the operator has submitted an IFQ Departure Report per paragraph (l)(4) of this section, a VAR is not required.

(2) Information required. Whether original or revised VAR; name and Federal fisheries permit number of vessel; type of vessel (whether catcher vessel, catcher/processor, or mothership); and representative information (see paragraph (b)(2) of this section).

(i) Return report. “Return,” for purposes of this paragraph, means returning to Alaska. If the vessel is crossing into the seaward boundary of the EEZ off Alaska or crossing the U.S.-Canadian international boundary between Alaska and British Columbia into U.S. waters, indicate a “return” report and enter:

(A) Intended Alaska port of landing (see Table 14 to this part);

(B) Estimated date and time (hour and minute, Greenwich mean time) the vessel will cross;

(C) The estimated position coordinates the vessel will cross.

(ii) Depart report. “Depart” means leaving Alaska. If the vessel is crossing out of the seaward boundary of the EEZ off Alaska or crossing the U.S.-Canadian international boundary between Alaska and British Columbia into Canadian waters, indicate a “depart” report and enter:

(A) The intended U.S. port of landing or country other than the United States;

(B) Estimated date and time (hour and minute, Greenwich mean time) the vessel will cross;

(C) The estimated position coordinates in latitude and longitude the vessel will cross.

(iii) The Russian Zone. Indicate whether your vessel is returning from fishing in the Russian Zone or is departing to fish in the Russian Zone.

(iv) Fish or fish products. For all fish or fish products (including non-groundfish) on board the vessel, enter: Harvest zone code; species codes; product codes; and total fish product weight in lbs or to the nearest 0.001 mt.

(l) IFQ halibut, CDQ halibut or IFQ sablefish recordkeeping and reporting. In addition to the recordkeeping and reporting requirements in this section and as prescribed in the annual management measures published in the Federal Register pursuant to § 300.62 of this title, the following reports and authorizations are required, when applicable: IFQ Prior Notice of Landing, Product Transfer Report (see § 679.5(g) of this section), IFQ Landing Report, IFQ Transshipment Authorization, and IFQ Departure Report.

(1) IFQ Prior Notice of Landing (PNOL)—(i) Time limits and submittal. (A) Except as provided in paragraph (l)(1)(iv) of this section, the operator of any vessel making an IFQ landing must notify OLE, Juneau, AK, no fewer than 3 hours before landing IFQ halibut or IFQ sablefish, unless permission to commence an IFQ landing within 3 hours of notification is granted by a clearing officer.

(B) A PNOL must be made to the toll-free telephone number 800-304-4846 or to 907-586-7163 between the hours of 0600 hours, A.l.t., and 2400 hours, A.l.t.

(ii) Revision to PNOL. The operator of any vessel wishing to land IFQ halibut or IFQ sablefish before the date and time (A.l.t.) reported in the PNOL or later than 2 hours after the date and time (A.l.t.) reported in the PNOL must submit a new PNOL as described in paragraphs (l)(1)(i) and (iii) of this section.

(iii) Information required. A PNOL must include the following:

(A) Vessel name and ADF&G vessel registration number;

(B) Port of landing and port code from Table 14 to this part;

(C) Exact location of landing within the port (i.e., dock name, harbor name, facility name, or geographical coordinates);

(D) The date and time (A.l.t.) that the landing will take place;

(E) Species and estimated weight (in pounds) of the IFQ halibut or IFQ sablefish that will be landed;

(F) IFQ regulatory area(s) in which the IFQ halibut or IFQ sablefish were harvested; and

(G) IFQ permit number(s) that will be used to land the IFQ halibut or IFQ sablefish and Registered Buyer name.

(iv) Exemption. An IFQ landing of halibut of 500 lb or less of IFQ weight determined pursuant to § 679.42(c)(2) and concurrent with a legal landing of salmon or a legal landing of lingcod harvested using dinglebar gear is exempt from the PNOL required by this section.

(2) IFQ landing report—(i) Requirements—(A) All IFQ catch debited. All IFQ halibut, CDQ halibut, and IFQ sablefish catch must be weighed and debited from the IFQ permit holder's account under which the catch was harvested.

(B) Single offload site for halibut. The vessel operator who lands IFQ halibut or CDQ halibut must continuously and completely offload at a single offload site all halibut on board the vessel.

(C) Single offload site for sablefish. The vessel operator who lands IFQ sablefish must continuously and completely offload at a single offload site all sablefish on board the vessel.

(D) Remain at landing site. Once landing operations have commenced, the IFQ cardholder and the harvesting vessel may not leave the landing site until the IFQ account is properly debited (as defined in paragraph (l)(2)(iv)(D) of this section).

(E) No movement of IFQ halibut, CDQ halibut, or IFQ sablefish. The offloaded IFQ halibut, CDQ halibut, or IFQ sablefish may not be moved from the landing site until the IFQ Landing Report is received by OLE, Juneau, AK, and the IFQ cardholder's account is properly debited (as defined in paragraph (l)(2)(iv)(D) of this section).

(ii) Time limits. (A) A landing of IFQ halibut, CDQ halibut, or IFQ sablefish may commence only between 0600 hours, A.l.t., and 1800 hours, A.l.t., unless permission to land at a different time (waiver) is granted in advance by a clearing officer.

(B) A Registered Buyer must submit a completed IFQ Landing Report within 6 hours after all IFQ halibut, CDQ halibut, or IFQ sablefish are landed and prior to shipment or transfer of said fish from the landing site.

(iii) Information required. The Registered Buyer must enter accurate information contained in a complete IFQ Landing Report as follows:

(A) Date and time (A.l.t.) of the IFQ landing;

(B) Location of the IFQ landing (port code or if at sea, lat. and long.);

(C) Name and permit number of the IFQ card holder;

(D) Name and permit number of Registered Buyer receiving the IFQ species;

(E) The harvesting vessel's name and ADF&G vessel registration number;

(F) Gear type used to harvest IFQ species;

(G) Alaska State fish ticket number(s) for the landing;

(H) ADF&G statistical area of harvest reported by the IFQ cardholder;

(I) If ADF&G statistical area is bisected by a line dividing two IFQ regulatory areas, the IFQ regulatory area of harvest reported by the IFQ cardholder;

(J) For each ADF&G statistical area of harvest, the species codes, product codes, and initial accurate scale weight (in pounds or to the nearest thousandth of a metric ton) made at the time of offloading for IFQ species sold and retained. Exception: if the vessel operator is the Registered Buyer reporting the IFQ landing, the accurate weight of IFQ sablefish processed product obtained before the offload may be substituted for the initial accurate scale weight at time of offload.

(K) Whether ice and slime are present on the fish as offloaded from the vessel. Fish which have been washed prior to weighing or which have been offloaded from refrigerated salt water are not eligible for a 2-percent deduction for ice and slime and must indicate NO SLIME & ICE.

(L) If IFQ halibut is incidental catch concurrent with legal landing of salmon or concurrent with legal landing of lingcod harvested using dinglebar gear.

(M) After the Registered Buyer enters the landing data in the transaction terminal or the Internet submission form(s) and a receipt is printed, the Registered Buyer, or his/her representative, and the IFQ cardholder must sign the receipt(s) to acknowledge the accuracy of the Landing Report.

(iv) Submittals—(A) Transaction terminal. Except as indicated in paragraphs (l)(2)(iv)(B) and (C) of this section, electronic Landing Reports must be submitted to OLE, Juneau, AK, using magnetic strip cards issued by NMFS, Alaska Region, and transaction terminals with printers driven by custom-designed software as provided and/or specified by NMFS, Alaska Region. The Registered Buyer must locate or procure a transaction terminal and report as required. The IFQ cardholder must initiate a Landing Report by using his or her own magnetic card and personal identification number (PIN).

(B) Internet. Electronic Landing Reports may be submitted to OLE, Juneau, AK, using Internet submission methods as provided and/or specified by NMFS, Alaska Region. It is the responsibility of the Registered Buyer to obtain at his or her own expense, hardware, software and Internet connectivity to support Internet submissions and report as required.

(C) Manual landing report. Waivers from the transaction terminal or Internet reporting requirement can only be granted in writing on a case-by-case basis by a local clearing officer. If a waiver is granted, manual landing instructions must be obtained from OLE, Juneau, AK, at 800-304-4846. Registered Buyers must complete and submit manual Landing Reports by FAX to OLE, Juneau, AK, at 907-586-7313. When a waiver is issued, the following additional information is required: Whether the manual Landing Report is an original or revised; and name, telephone number, and FAX number of individual submitting the manual Landing Report.

(D) Properly debited landing. A properly concluded transaction terminal receipt, printed Internet submission receipt, or manual Landing Report receipt received by FAX from OLE, Juneau, AK, and signed by an OLE representative constitutes confirmation that OLE received the Landing Report and that the cardholder's account was properly debited.

(3) Transshipment authorization. (i) No person may transship processed IFQ halibut or IFQ sablefish between vessels without authorization by a local clearing officer. Authorization from a local clearing officer must be obtained for each instance of transshipment at least 24 hours before the transshipment is intended to commence.

(ii) Information required. To obtain a Transshipment Authorization, the vessel operator must provide the following information to the clearing officer:

(A) Date and time (A.l.t.) of transshipment;

(B) Location of transshipment;

(C) Name and ADF&G vessel registration number of vessel offloading transshipment;

(D) Name of vessel receiving the transshipment;

(E) Product destination;

(F) Species and product type codes;

(G) Total product weight;

(H) Time (A.l.t.) and date of the request;

(I) Name, telephone number, FAX number (if any) for the person making the request.

(4) IFQ Departure Report—(i) General Requirements—(A) Time limit and submittal. A vessel operator who intends to make an IFQ halibut, CDQ halibut, or IFQ sablefish landing at any location other than in an IFQ regulatory area or in the State of Alaska must submit an IFQ Departure Report, by telephone, to OLE, Juneau, AK, at 800-304-4846 or 907-586-7163 between the hours of 0600 hours, A.l.t., and 2400 hours, A.l.t.

(B) Completion of fishing. A vessel operator must submit an IFQ Departure Report after completion of all fishing and prior to departing the waters of the EEZ adjacent to the jurisdictional waters of the State of Alaska, the territorial sea of the State of Alaska, or the internal waters of the State of Alaska when IFQ halibut, CDQ halibut, or IFQ sablefish are on board.

(C) IFQ Registered Buyer permit. A vessel operator submitting an IFQ Departure Report must have an IFQ Registered Buyer permit.

(D) First landing of any species. A vessel operator submitting an IFQ Departure Report must submit IFQ Landing Reports for all IFQ halibut, CDQ halibut, and IFQ sablefish on board at the same time and place as the first landing of any IFQ species.

(E) IFQ permits on board. A vessel operator submitting an IFQ Departure Report must ensure that one or more IFQ cardholders are on board with enough remaining IFQ balance to harvest amounts of IFQ halibut, CDQ halibut or IFQ sablefish equal to or greater than all IFQ halibut, CDQ halibut and IFQ sablefish on board.

(ii) Required information. When submitting an IFQ Departure Report, the vessel operator must provide the following information:

(A) Intended date, time (A.l.t.), and location of landing;

(B) Vessel name and ADF&G registration number;

(C) Vessel operator's name and IFQ Registered Buyer permit number;

(D) Halibut IFQ Permit numbers and sablefish IFQ Permit numbers of IFQ cardholders on board;

(E) Halibut Regulatory Areas or Sablefish Regulatory Areas of harvest or both;

(F) Estimated total weight of IFQ halibut or CDQ halibut on board (lb/kg/mt);

(G) Estimated total weight of IFQ sablefish on board (lb/kg/mt).

(5) Landing verification, inspection and record retention—(i) Verification and inspection. Each IFQ landing and all fish retained on board the vessel making an IFQ landing are subject to verification and inspection by authorized officers.

(ii) Record retention. The IFQ cardholder must retain a legible copy of all Landing Report receipts and the Registered Buyer must retain a copy of all reports and receipts required by this section and make them available for inspection by an authorized officer:

(A) Until the end of the fishing year during which the records were made and for as long thereafter as fish or fish products recorded are retained; and

(B) Upon request of an authorized officer for 3 years after the end of the fishing year during which the records were made.

(6) Sampling—(i) Each IFQ halibut landing and all fish retained on board a vessel making an IFQ landing are subject to sampling by NMFS-authorized observers.

(ii) Each IFQ halibut landing is subject to sampling for biological information by persons authorized by the IPHC.

* * * * *

5. In § 679.7, paragraphs (f)(6) and (f)(12) are revised to read as follows:

§ 679.7 Prohibitions.

* * * * *

(f) * * *

(6) Landing—(i) IFQ or CDQ card. Make an IFQ halibut, IFQ sablefish, or CDQ halibut landing without an IFQ or CDQ card in the name of the individual making the landing.

(ii) Hired master. Make an IFQ halibut, IFQ sablefish, or CDQ halibut landing without an IFQ or CDQ card listing the name of the hired master and the name of the vessel making the landing.

* * * * *

(12) Commence an IFQ landing without a Prior Notice of Landing (PNOL), before the date and time stated on the PNOL, or more than 2 hours after the date and time stated on the PNOL, except as provided in § 679.5(l)(1).

* * * * *

6. In § 679.32, paragraph (f)(2)(iv) is revised to read as follows:

§ 679.32 Groundfish and halibut CDQ catch monitoring.

* * * * *

(f) * * *

(2) * * *

(iv) Landings. A person may land halibut CDQ only if he or she has a valid CDQ card, and that person may deliver halibut CDQ only to a person with a valid Registered Buyer permit. The person holding the halibut CDQ card and the Registered Buyer must comply with the requirements of § 679.5(g) and (l).

* * * * *

7. In § 679.42, paragraphs (a), (c)(1)(ii), (c)(1)(iv), and (c)(2)(i) are revised to read as follows:

§ 679.42 Limitations on use of QS and IFQ.

(a) IFQ regulatory area and vessel category. (1) The QS or IFQ specified for one IFQ regulatory area must not be used in a different IFQ regulatory area.

(2) Except as provided in § 679.41(i)(1) of this part, the IFQ assigned to one vessel category must not be used to harvest IFQ species on a vessel of a different vessel category.

(3) Notwithstanding § 679.40(a)(5)(ii), IFQ assigned to vessel Category B must not be used on any vessel less than or equal to 60 ft (18.3 m) LOA to harvest IFQ halibut in IFQ regulatory area 2C or IFQ sablefish in the IFQ regulatory area east of 140° W. long. unless such IFQ derives from blocked QS units that result in IFQ of less than 5,000 lb (2.268 mt), based on the 1996 TAC for fixed gear specified for the IFQ halibut fishery and the IFQ sablefish fishery in each of these two regulatory areas.

* * * * *

(c) * * *

(1) * * *

(ii) Be aboard the vessel at all times during the fishing trip and present during the landing.

* * * * *

(iv) Sign the IFQ Landing Report required by § 679.5(l)(2)(iii)(M) or § 679.5(l)(2)(iv)(C).

(2) * * *

(i) Except as provided in § 679.5(l)(2)(iii)(J), if offload of unprocessed IFQ halibut, CDQ halibut or IFQ sablefish from a vessel, the scale weight of the halibut or sablefish product actually measured at the time of offload, as required by § 679.5(l)(2)(iii) to be included in the IFQ Landing Report.

* * * * *

8. In § 679.43, paragraph (c)is revised to read as follows:

§ 679.43 Determinations and appeals.

* * * * *

(c) Submission of appeals. Appeals must be in writing and must be mailed to the: National Marine Fisheries Service, Office of Administrative Appeals (OAA), P. O. Box 21668, Juneau, AK 99802-1668, or delivered to National Marine Fisheries Service, Attention: Appeals (OAA), 709 W. 9th Street, Room 453, Juneau, AK 99801.

* * * * *

9. In part 679, Tables 14a, 14b, and 14c are revised to read as follows:

Table 14a to Part 679. Port of Landing Codes, Alaska ¹
Port name | NMFS code | ADF&G code
Adak | 186 | ADA
Akutan | 101 | AKU
Akutan Bay | 102 |
Alitak | 103 | ALI
Anchor Point | 104 |
Anchorage | 105 | ANC
Angoon | 106 | ANG
Aniak |  | ANI
Anvik |  | ANV
Atka | 107 | ATK
Auke Bay | 108 |
Baranof Warm Springs | 109 |
Beaver Inlet | 110 |
Bethel |  | BET
Captains Bay | 112 |
Chefornak | 189 |
Chignik | 113 | CHG
Chinitna Bay | 114 |
Cordova | 115 | COR
Craig | 116 | CRG
Dillingham | 117 | DIL
Douglas | 118 |
Dutch Harbor/Unalaska | 119 | DUT
Edna Bay | 121 |
Egegik | 122 | EGE
Ekuk |  | EKU
Elfin Cove | 123 | ELF
Emmonak |  | EMM
Excursion Inlet | 124 | XIP
False Pass | 125 | FSP
Fairbanks |  | FBK
Galena |  | GAL
Glacier Bay |  | GLB
Glennallen |  | GLN
Gustavus | 127 | GUS
Haines | 128 | HNS
Halibut Cove | 130 |
Hollis | 131 |
Homer | 132 | HOM
Hoonah | 133 | HNH
Hooper Bay | 188 |
Hydaburg |  | HYD
Hyder | 134 | HDR
Ikatan Bay | 135 |
Juneau | 136 | JNU
Kake | 137 | KAK
Kaltag |  | KAL
Kasilof | 138 | KAS
Kenai | 139 | KEN
Kenai River | 140 |
Ketchikan | 141 | KTN
King Cove | 142 | KCO
King Salmon | 143 | KNG
Kipnuk | 144 |
Klawock | 145 | KLA
Kodiak | 146 | KOD
Kotzebue |  | KOT
La Conner |  | LAC
Mekoryuk | 147 |
Metlakatla | 148 | MET
Moser Bay |  | MOS
Naknek | 149 | NAK
Nenana |  | NEN
Nikiski (or Nikishka) | 150 | NIK
Ninilchik | 151 | NIN
Nome | 152 | NOM
Nunivak Island |  | NUN
Old Harbor | 153 | OLD
Other Alaska ¹ | 499 | UNK
Pelican | 155 | PEL
Petersburg | 156 | PBG
Point Baker | 157 |
Port Alexander | 158 | PAL
Port Armstrong |  | PTA
Port Bailey | 159 | PTB
Port Graham | 160 | GRM
Port Lions |  | LIO
Port Moller |  | MOL
Port Protection | 161 |
Portage Bay (Petersburg) | 162 |
Quinhagak | 187 |
Resurrection Bay | 163 |
Sand Point | 164 | SPT
Savoonga | 165 |
Seldovia | 166 | SEL
Seward | 167 | SEW
Sitka | 168 | SIT
Skagway | 169 | SKG
Soldotna |  | SOL
St. George | 170 | STG
St. Lawrence | 171 |
St. Mary |  | STM
St. Paul | 172 | STP
Tee Harbor | 173 |
Tenakee Springs | 174 | TEN
Thorne Bay | 175 |
Togiak | 176 | TOG
Toksook Bay | 177 |
Tununak | 178 |
Ugadaga Bay | 179 |
Ugashik |  | UGA
Unalakleet |  | UNA
Valdez | 181 | VAL
Wasilla |  | WAS
West Anchor Cove | 182 |
Whittier | 183 | WHT
Wrangell | 184 | WRN
Yakutat | 185 | YAK
¹ To report a landing at a location not currently assigned a location code number: use the code for “Other” for the state or country at which the landing occurs and notify NMFS of the actual location so that the list may be updated. For example, to report a landing for Levelock, Alaska if there is currently no code assigned, use “499” “Other, AK”.

Table 14b to Part 679.—Port of Landing Codes: California, Oregon, Canada
Port name | NMFS code | ADF&G code
California:
Eureka | 500 | EUR
Fort Bragg | 501 |
Other California | 599 |
Oregon:
Astoria | 600 | AST
Lincoln City | 602 |
Newport | 603 | NPT
Olympia |  | OLY
Portland |  | POR
Warrenton | 604 |
Other Oregon | 699 |
Canada:
Port Edward | 800 |
Port Hardy | 801 |
Prince Rupert | 802 | PRU
Vancouver | 803 |
Other Canada | 899 |

Table 14c to Part 679.—Washington Port of Landing Codes
Port name | NMFS code | ADF&G code
Anacortes | 700 | ANA
Bellevue | 701 |
Bellingham | 702 |
Blaine |  | BLA
Edmonds | 703 |
Everett | 704 |
Fox Island | 706 |
Ilwaco | 707 |
La Conner | 708 | LAC
Mercer Island | 709 |
Nagai Island | 710 |
Port Angeles | 711 |
Port Orchard | 712 |
Port Townsend | 713 |
Rainier | 714 |
Seattle | 715 | SEA
Tacoma |  | TAC
Other Washington | 799 |

[FR Doc. 03-704 Filed 1-23-03; 8:45 am]

BILLING CODE 3510-22-P